DEPARTMENT OF THE INTERIOR

Fish and Wildlife Service

50 CFR Part 20

[Docket No. FWS-HQ-MB-2021-0057; FF09M2200-223-FXMB1231099BPP0]

RIN 1018-BF07

Migratory Bird Hunting; 2022-23 Frameworks for Migratory Bird Hunting Regulations

AGENCY: Fish and Wildlife Service, Interior.

ACTION: Proposed rule; supplemental.

SUMMARY: The U.S. Fish and Wildlife Service (Service or we) is proposing to establish the 2022-23 hunting regulations for certain migratory game birds. We annually prescribe outside limits (which we call frameworks) within which States may select hunting seasons. Frameworks specify the outside dates, season lengths, shooting hours, bag and possession limits, and areas where migratory game bird hunting may occur. These frameworks are necessary to allow State selections of seasons and limits and to allow harvest at levels compatible with migratory game bird population status and habitat conditions. Migratory game bird hunting seasons provide opportunities for recreation and sustenance, and aid Federal, State, and Tribal governments in the management of migratory game birds.

DATES: You must submit comments on the proposed migratory bird hunting frameworks by March 4, 2022.

ADDRESSES:

Comments: You may submit comments on the proposals by one of the following methods:

• Federal eRulemaking Portal: https://www.regulations.gov. In the Search box, enter the docket number or RIN for this rulemaking (presented above in the document headings). For best results, do not copy and paste either number; instead, type the docket number or RIN into the Search box using hyphens. Then, click on the Search button. On the resulting page, in the panel on the left side of the screen, under the Document Type heading, check the Proposed Rule box to locate this document. You may submit a comment by clicking on “Comment.”

• U.S. Mail: Public Comments Processing, Attn: FWS-HQ-MB-2021-0057; U.S. Fish and Wildlife Service, MS: JAO/3W, 5275 Leesburg Pike, Falls Church, VA 22041-3803.

We will not accept emailed or faxed comments. We will post all comments on https://www.regulations.gov. This generally means that we will post any personal information you provide us (see Review of Public Comments and Flyway Council Recommendations, below, for more information).

FOR FURTHER INFORMATION CONTACT: Jerome Ford, U.S. Fish and Wildlife Service, Department of the Interior, (202) 208-1050.

SUPPLEMENTARY INFORMATION:

Process for Establishing Annual Migratory Game Bird Hunting Regulations

As part of the Department of the Interior's retrospective regulatory review, in 2015 we developed a schedule for migratory game bird hunting regulations that is more efficient and establishes hunting season dates earlier than was possible under the previous process. Under the current process, we develop proposed hunting season frameworks for a given year in the fall of the prior year. We then finalize those frameworks a few months later, thereby enabling the State agencies to select and publish their season dates in early summer. We provided a detailed overview of the current process in the August 3, 2017, Federal Register (82 FR 36308). This proposed rule is the second in a series of proposed and final rules that establish regulations for the 2022-23 migratory game bird-hunting season.

Regulations Schedule for 2022

The process for promulgating annual regulations for the hunting of migratory game birds involves the publication of a series of proposed and final rulemaking documents. On August 31, 2021, we published in the Federal Register (86 FR 48649) a proposal to amend 50 CFR part 20. The proposal provided a background and overview of the migratory bird hunting regulations process, and addressed the establishment of seasons, limits, and other regulations for hunting migratory game birds under §§ 20.101 through 20.107, 20.109, and 20.110 of subpart K. This document is the second in a series of proposed and final rules for promulgating annual migratory game bird hunting regulations. Major steps in the 2022-23 regulatory cycle relating to open public meetings and Federal Register notifications were illustrated in the diagram at the end of the August 31, 2021, proposed rule. For this regulatory cycle, we have combined elements of the document that is described in the diagram as Supplemental Proposals with the document that is described as Proposed Season Frameworks.

Further, in the August 31, 2021, proposed rule we explained that all sections of subsequent documents outlining hunting frameworks and guidelines would be organized under numbered headings, which were set forth at 86 FR 48649. This and subsequent documents will refer only to numbered items requiring attention. Because we will omit those items not requiring attention, the remaining numbered items may be discontinuous, and the list will appear incomplete.

We provided the meeting dates and locations for the Service Regulations Committee (SRC) and Flyway Council meetings on Flyway calendars posted on our website at https://www.fws.gov/birds/management/flyways.php. We announced the April SRC meeting in the March 25, 2021, Federal Register (86 FR 15957) and on our website. The August 31, 2021, proposed rule provided detailed information on the proposed 2022-23 regulatory schedule and announced the September SRC meeting. The SRC conducted an open meeting with the Flyway Council Consultants on April 6, 2021, to discuss preliminary issues for the 2022-23 regulations, and on September 28-29, 2021, to review information on the current status of migratory game birds and develop recommendations for the 2022-23 regulations for these species.

This supplemental proposed rule provides the regulatory alternatives for the 2022-23 duck hunting season and provides proposed frameworks for the 2022-23 migratory bird hunting season. It will lead to final frameworks from which States may select season dates, shooting hours, areas, and limits. We have considered all pertinent comments received through September 2021, which includes comments submitted in response to our August 31 proposed rulemaking document and comments from the September SRC meeting. In addition, new proposals for certain regulations are provided for public comment. The comment period is specified above under DATES. We anticipate publishing final regulatory frameworks for migratory game bird hunting in the Federal Register around May 2022.

Population Status and Harvest

Each year we publish reports that provide detailed information on the status and harvest of certain migratory game bird species. These reports are available at the address indicated under FOR FURTHER INFORMATION CONTACT or from our website at https://www.fws.gov/birds/surveys-and-data/reports-and-publications/population-status.php.

We used the following annual reports published in August 2021 in the development of proposed frameworks for the migratory bird hunting regulations: Adaptive Harvest Management, 2022 Hunting Season; American Woodcock Population Status, 2021; Band-tailed Pigeon Population Status, 2021; Migratory Bird Hunting Activity and Harvest During the 2019-20 and 2020-21 Hunting Seasons; Mourning Dove Population Status, 2021; Status and Harvests of Sandhill Cranes, Mid-continent, Rocky Mountain, Lower Colorado River Valley and Eastern Populations, 2021; and Waterfowl Population Status, 2021.

Our long-term objectives continue to include providing opportunities to harvest portions of certain migratory game bird populations and to limit harvests to levels compatible with each population's ability to maintain healthy, viable numbers. Migratory game bird hunting seasons provide opportunities for recreation and sustenance, and aid Federal, State, and Tribal governments in the management of migratory game birds. Having taken into account the zones of temperature and the distribution, abundance, economic value, breeding habits, and times and lines of flight of migratory birds, we conclude that the proposed hunting seasons provided for herein are compatible with the current status of migratory bird populations and long-term population goals. Additionally, we are obligated to, and do, give serious consideration to all information received during the public comment period.

Review of Public Comments and Flyway Council Recommendations

The preliminary proposed rulemaking, which appeared in the August 31, 2021, Federal Register, opened the public comment period for migratory game bird hunting regulations and described the proposed regulatory alternatives for the 2022-23 duck hunting season. Comments and recommendations are summarized below and numbered in the order used in the August 31, 2021, proposed rule (see 86 FR 48649).

We received recommendations from all four Flyway Councils at the April and September SRC meetings; all recommendations are from the September meeting unless otherwise noted. Some recommendations supported continuation of last year's frameworks. Due to the comprehensive nature of the annual review of the frameworks performed by the Councils, support for continuation of last year's frameworks is assumed for items for which no recommendations were received. Council recommendations for changes in the frameworks are summarized below. As explained earlier in this document, we have included only the numbered items pertaining to issues for which we received recommendations. Consequently, the issues do not follow in successive numerical order.

We seek additional information and comments on the recommendations in this supplemental proposed rule. New proposals and modifications to previously described proposals are discussed below. Wherever possible, proposals are discussed under headings corresponding to the numbered items in the August 31, 2021, proposed rule.

General

Written Comments: Several commenters protested the entire migratory bird hunting regulations process, the killing of all migratory birds, and questioned the status and habitat data on which the migratory bird hunting regulations are based.

Service Response: As we indicated above under Population Status and Harvest, our long-term objectives continue to include providing opportunities to harvest portions of certain migratory game bird populations and to limit harvests to levels compatible with each population's ability to maintain healthy, viable numbers. Sustaining migratory bird populations and ensuring a variety of sustainable uses, including harvest, is consistent with the guiding principles by which migratory birds are to be managed under the conventions between the United States and several foreign nations for the protection and management of these birds. We have taken into account available information and considered public comments and continue to conclude that the hunting seasons provided for herein are compatible with the current status of migratory bird populations and long-term population goals. In regard to the regulations process, the Flyway Council system of migratory bird management has been a longstanding example of State-Federal cooperative management since its establishment in 1952 in the regulation development process and bird population and habitat monitoring. However, as always, we continue to seek new ways to streamline and improve the process and ensure adequate conservation of the resource.

1. Ducks

A. General Harvest Strategy

Council Recommendations: The Atlantic, Mississippi, Central, and Pacific Flyway Councils recommended adoption of the liberal regulatory alternative for their respective flyways.

Service Response: As we stated in the August 31, 2021, proposed rule, we intend to continue use of Adaptive Harvest Management (AHM) to help determine appropriate duck-hunting regulations for the 2022-23 season. AHM is a tool that permits sound resource decisions in the face of uncertain regulatory impacts and provides a mechanism for reducing that uncertainty over time. We use an AHM protocol (decision framework) to evaluate four regulatory alternatives, each with a different expected harvest level, and choose the optimal regulation for duck hunting based on the status and demographics of mallards for the Mississippi, Central, and Pacific Flyways, and based on the status and demographics of a suite of four species (eastern waterfowl) in the Atlantic Flyway (see below, and the earlier referenced report “Adaptive Harvest Management, 2022 Hunting Season” for more details). We have specific AHM protocols that guide appropriate bag limits and season lengths for species of special concern, including black ducks, scaup, and pintails, within the general duck season. These protocols use the same outside season dates and lengths as those regulatory alternatives for the 2022-23 general duck season.

For the 2022-23 hunting season, we will continue to use independent optimizations to determine the appropriate regulatory alternative for mallard stocks in the Mississippi, Central, and Pacific Flyways and for eastern waterfowl in the Atlantic Flyway. This means that we will develop regulations for mid-continent mallards, western mallards, and eastern waterfowl independently based on the breeding stock(s) that contributes primarily to each Flyway. We detailed implementation of AHM protocols for mid-continent and western mallards in the July 24, 2008, Federal Register (73 FR 43290), and for eastern waterfowl in the September 21, 2018, Federal Register (83 FR 47868).

We also stated in the August 31, 2021, proposed rule that the coronavirus pandemic and associated travel restrictions and human health concerns in the United States and Canada prevented the Service and their partners from performing the Waterfowl Breeding Population and Habitat Survey (WBPHS) and estimating waterfowl breeding abundances and habitat conditions in the spring of 2021 in some cases. As a result, AHM protocols have been adjusted only as necessary to inform decisions on duck hunting regulations based on model predictions of breeding abundances and habitat conditions. In most cases, system models specific to each AHM decision framework have been used to predict breeding abundances from the available information (e.g., 2019 observations). However, for some system state variables (i.e., pond numbers and mean latitude), we have used updated time series models to forecast 2021 values based on the most recent information. These technical adjustments are described in detail in the report entitled “Adaptive Harvest Management, 2022 Hunting Season” referenced above under Population Status and Harvest.

Atlantic Flyway

For the Atlantic Flyway, we set duck-hunting regulations based on the status and demographics of a suite of four duck species (eastern waterfowl) in eastern Canada and the Atlantic Flyway States: green-winged teal, common goldeneye, ring-necked duck, and wood duck. For purposes of the assessment, eastern waterfowl stocks are those breeding in eastern Canada and Maine (Federal WBPHS fixed-wing surveys in strata 51-53, 56, and 62-70, and helicopter plot surveys in strata 51-52, 63-64, 66-68, and 70-72) and in Atlantic Flyway States from New Hampshire south to Virginia (Atlantic Flyway Breeding Waterfowl Survey, AFBWS). Abundance estimates for green-winged teal, ring-necked ducks, and goldeneyes are derived annually by integrating fixed-wing and helicopter survey data from eastern Canada and Maine (WBPHS strata 51-53, 56, and 62-72). Counts of green-winged teal, ring-necked ducks, and goldeneyes in the AFBWS are negligible and therefore excluded from population estimates for those species. Abundance estimates for wood ducks in the Atlantic Flyway (Maine south to Florida) are estimated by integrating data from the AFBWS and the North American Breeding Bird Survey. Counts of wood ducks from the WBPHS are negligible and therefore excluded from population estimates.

For the 2022-23 hunting season, we evaluated alternative harvest regulations for eastern waterfowl using: (1) A management objective of 98 percent of maximum long-term sustainable harvest for eastern waterfowl; (2) the 2022-23 regulatory alternatives; and (3) current stock-specific population models and associated weights. Based on the liberal regulatory alternative selected for the 2021-22 duck hunting season, the 2021 abundances of 1.02 million observed wood ducks, and 0.34 million American green-winged teal, 0.71 million ring-necked ducks, and 0.59 million goldeneyes predicted for the eastern survey area and Atlantic Flyway, the optimal regulation for the Atlantic Flyway is the liberal alternative. Therefore, we concur with the recommendation of the Atlantic Flyway Council regarding selection of the liberal regulatory alternative as described in the August 31, 2021, proposed rule for the 2022-23 season.

The mallard bag limit in the Atlantic Flyway is based on a separate assessment of the harvest potential of eastern mallards (see xi. Other, below, for further discussion on the mallard bag limit in the Atlantic Flyway).

Mississippi and Central Flyways

For the Mississippi and Central Flyways, we set duck-hunting regulations based on the status and demographics of mid-continent mallards and habitat conditions (pond numbers in Prairie Canada). For purposes of the assessment, mid-continent mallards are those breeding in central North America (Federal WBPHS strata 13-18, 20-50, and 75-77), and in Michigan, Minnesota, and Wisconsin (State surveys).

For the 2022-23 hunting season, we evaluated alternative harvest regulations for mid-continent mallards using: (1) A management objective of maximum long-term sustainable harvest; (2) the 2022-23 regulatory alternatives; and (3) current population models and associated weights. Based on a liberal regulatory alternative selected for the 2021-22 hunting season, the 2021 model predictions of 8.62 million mid-continent mallards and 2.94 million ponds in Prairie Canada, the optimal regulation for the Mississippi and Central Flyways is the liberal alternative. Therefore, we concur with the recommendations of the Mississippi and Central Flyway Councils regarding selection of the liberal regulatory alternative as described in the August 31, 2021, proposed rule for the 2022-23 season.

Pacific Flyway

For the Pacific Flyway, we set duck-hunting regulations based on the status and demographics of western mallards. For purposes of the assessment, western mallards consist of two substocks and are those breeding in Alaska and Yukon Territory (Federal WBPHS strata 1-12) and those breeding in the southern Pacific Flyway including California, Oregon, Washington, and British Columbia (State and Provincial surveys) combined.

For the 2022-23 hunting season, we evaluated alternative harvest regulations for western mallards using: (1) A management objective of maximum long-term sustainable harvest; (2) the 2022-23 regulatory alternatives; and (3) the current population model. Based on a liberal regulatory alternative selected for the 2021-22 hunting season, and 2021 abundances of 1.17 million western mallards observed in Alaska (0.64 million) and predicted for the southern Pacific Flyway (0.53 million), the optimal regulation for the Pacific Flyway is the liberal alternative. Therefore, we concur with the recommendation of the Pacific Flyway Council regarding selection of the liberal regulatory alternative as described in the August 31, 2021, proposed rule for the 2022-23 season.

B. Regulatory Alternatives

Council Recommendations: At the April SRC meeting, the Atlantic, Mississippi, Central, and Pacific Flyway Councils recommended that AHM regulatory alternatives for duck hunting during the 2022-23 season remain the same as those used in the previous season.

Service Response: Consistent with Flyway Council recommendations, the AHM regulatory alternatives proposed for the Atlantic, Mississippi, Central, and Pacific Flyways in the August 31, 2021, proposed rule (86 FR 48649) will be used for the 2022-23 hunting season (see accompanying table at the end of that document for specific information). The AHM regulatory alternatives consist only of the maximum season lengths, framework dates, and bag limits for total ducks and mallards. Restrictions for certain species within these frameworks that are not covered by existing harvest strategies will be addressed elsewhere in these proposed frameworks. For those species with specific harvest strategies (pintails, black ducks, and scaup), those strategies will again be used for the 2022-23 hunting season.

D. Special Seasons/Species Management

i. Early Teal Seasons

Because a spring 2021 abundance estimate from the WBPHS for blue-winged teal was not available, we used time series models to predict their abundance. The predicted estimate was 5.83 million birds. Because this estimate is greater than 4.7 million birds, the special early teal season guidelines (see 79 FR 51403, August 28, 2014) indicate that a 16-day special early (September) teal season with a 6-teal daily bag limit is appropriate for States in the Atlantic, Mississippi, and Central flyways.

ii. Early Teal-Wood Duck Seasons

In Florida, Kentucky, and Tennessee, in lieu of a special early teal season, a 5-consecutive-day teal-wood duck season may be selected in September. The daily bag limit may not exceed 6 teal and wood ducks in the aggregate, of which no more than 2 may be wood ducks. In addition, a 4-consecutive-day special early teal-only season may be selected in September either immediately before or immediately after the 5-consecutive-day teal-wood duck season. The daily bag limit is 6 teal.

iii. Black Ducks

Council Recommendations: The Atlantic and Mississippi Flyway Councils recommended continued use of the AHM protocol for black ducks, and adoption of the moderate regulatory alternative for their respective flyways. The Flyway-specific regulations consist of a daily bag limit of two black ducks and a season length of 60 days.

Service Response: The Service, Atlantic and Mississippi Flyway Councils, and Canada adopted an international AHM protocol for black ducks in 2012 (77 FR 49868; August 17, 2012) whereby we set black duck hunting regulations for the Atlantic and Mississippi Flyways (and Canada) based on the status and demographics of these birds. The AHM protocol clarifies country-specific target harvest levels and reduces conflicts over regulatory policies.

For the 2022-23 hunting season, we evaluated country-specific alternative harvest regulations using: (1) A management objective of 98 percent of maximum long-term sustainable harvest; (2) country-specific regulatory alternatives; and (3) current population models and associated weights. Based on the moderate regulatory alternative selected for the 2021-22 hunting season and the 2021 model predictions of 0.54 million breeding black ducks and 0.39 million breeding mallards (Federal WBPHS strata 51, 52, 63, 64, 66, 67, 68, 70, 71, and 72; core survey area), the optimal regulation for the Atlantic and Mississippi Flyways is the moderate alternative (and the liberal alternative in Canada). Therefore, we concur with the recommendations of the Atlantic and Mississippi Flyway Councils.

iv. Canvasbacks

Council Recommendations: The Atlantic, Mississippi, Central, and Pacific Flyway Councils recommended adoption of the liberal regulatory alternative for their respective flyways. The Flyway-specific regulations consist of a daily bag limit of two canvasbacks and a season length of 60 days in the Atlantic and Mississippi Flyways, 74 days in the Central Flyway, and 107 days in the Pacific Flyway.

Service Response: As we discussed in the March 28, 2016, Federal Register (81 FR 17302), the canvasback harvest strategy that we had relied on until 2015 was not viable under our new regulatory process because it required biological information that was not yet available at the time a decision on season structure needed to be made. We do not yet have a new harvest strategy to propose for use in guiding canvasback harvest management in the future. However, we have worked with technical staff of the four Flyway Councils to develop a decision framework (hereafter, decision support tool) that relies on the best biological information available to develop recommendations for annual canvasback harvest regulations. The decision support tool uses available information (1994-2014) on canvasback breeding population size in Alaska and north-central North America (Federal WBPHS traditional survey area, strata 1-18, 20-50, and 75-77), growth rate, survival, and harvest, and a population model to evaluate alternative harvest regulations based on a management objective of maximum long-term sustainable harvest. The decision support tool calls for a closed season when the population is below 460,000, a 1-bird daily bag limit when the population is between 460,000 and 480,000, and a 2-bird daily bag limit when the population is greater than 480,000. Because abundance estimates were not available from the WBPHS, we used two different methods to predict canvasback abundance during spring 2021. One used a population model initially developed in the 1990s, and the other used the time series of recent abundances from the WBPHS. Based on the resulting predictions of 639,239 and 677,422 canvasbacks, respectively, for the two approaches, we concur with the recommendations of the four Flyway Councils regarding selection of the liberal regulatory alternative for the 2022-23 season.

v. Pintails

Council Recommendations: The Atlantic, Mississippi, Central, and Pacific Flyway Councils recommended adoption of the liberal regulatory alternative with a 1-pintail daily bag limit for their respective flyways. The Flyway-specific regulations consist of a season length of 60 days in the Atlantic and Mississippi Flyways, 74 days in the Central Flyway, and 107 days in the Pacific Flyway.

Service Response: The Service and four Flyway Councils adopted an AHM protocol for pintail in 2010 (75 FR 44856; July 29, 2010) whereby we set pintail hunting regulations in all four Flyways based on the status and demographics of these birds.

For the 2022-23 hunting season, we evaluated alternative harvest regulations for pintails using: (1) A management objective of maximum long-term sustainable harvest, including a closed-season constraint of 1.75 million birds; (2) the regulatory alternatives; and (3) current population models and associated weights. Based on a liberal regulatory alternative with a 1-bird daily bag limit for the 2021-22 season, and the 2021 model predictions of 2.50 million pintails with the center of the population predicted to occur at a mean latitude of 55.47 degrees (Federal WBPHS traditional survey area, strata 1-18, 20-50, and 75-77), the optimal regulation for all four Flyways is the liberal alternative with a 1-pintail daily bag limit. Therefore, we concur with the recommendations of the four Flyway Councils.

vi. Scaup

Council Recommendations: The Atlantic, Mississippi, Central, and Pacific Flyway Councils recommended adoption of the restrictive regulatory alternative for the 2022-23 season. The Flyway-specific regulations consist of a 60-day season with a 1-bird daily bag limit during 40 consecutive days and a 2-bird daily bag limit during 20 consecutive days in the Atlantic Flyway, a 60-day season with a 2-bird daily bag limit during 45 consecutive days and a 1-bird daily bag limit during 15 consecutive days in the Mississippi Flyway, a 1-bird daily bag limit for 74 days in the Central Flyway (which may have separate segments of 39 days and 35 days), and an 86-day season with a 2-bird daily bag limit in the Pacific Flyway.

Service Response: The Service and four Flyway Councils adopted an AHM protocol for scaup in 2008 (73 FR 43290, July 24, 2008; and 73 FR 51124, August 29, 2008) whereby we set scaup hunting regulations in all four Flyways based on the status and demographics of these birds.

For the 2022-23 hunting season, we evaluated alternative harvest regulations for scaup using: (1) A management objective of 95 percent of maximum sustainable harvest; (2) the regulatory alternatives; and (3) the current population model. Based on a moderate regulatory alternative for the 2020-21 season, and the 2021 model prediction of 3.53 million scaup (Federal WBPHS traditional survey area, strata 1-18, 20-50, and 75-77), the optimal regulation for all four Flyways is the restrictive alternative. Therefore, we concur with the recommendations of the four Flyway Councils regarding selection of the restrictive alternative for the 2022-23 season.

xi. Other

Council Recommendations: The Atlantic Flyway Council recommended a mallard daily bag limit of two birds, only one of which could be female, for the Atlantic Flyway.

Service Response: We agree with the Atlantic Flyway Council's recommendation for a mallard daily bag limit of two birds, of which only one may be female, for the Atlantic Flyway. The Atlantic Flyway Council's eastern waterfowl AHM protocol (see above) did not specifically address bag limits for mallards. The number of breeding mallards in the northeastern United States (about two-thirds of the eastern mallard population in 1998) has decreased by about 38 percent since 1998, and the overall population has declined by about 1 percent per year during that time period. This situation has resulted in reduced harvest potential for that population. The Service conducted a Prescribed Take Level (PTL) analysis to estimate the allowable take (kill rate) for eastern mallards and compared that with the expected kill rate under the most liberal season length (60 days) considered as part of the eastern waterfowl AHM regulatory alternatives.

Using contemporary data and assuming a management objective of maximum long-term sustainable harvest, the PTL analysis estimated an allowable kill rate of 0.194-0.198. The expected kill rate for eastern mallards under a 60-day season and a 2-mallard daily bag limit in the U.S. portion of the Atlantic Flyway was 0.193 (SE = 0.016), which is slightly below (but not significantly different from) the point estimate of allowable kill at maximum long-term sustainable harvest. This estimate indicates that a 2-bird daily bag limit is sustainable at this time.

2. Sea Ducks

Council Recommendations: The Atlantic Flyway Council recommended three changes to the sea duck hunting regulations in the Atlantic Flyway: (1) Elimination of the special sea duck season; (2) reduction of the sea duck daily bag limit within the regular duck season to 4 sea ducks of which no more than 3 may be scoters, long-tailed ducks, or eiders, and no more than 1 may be a hen eider; and (3) retention of the exception that allows shooting of crippled waterfowl from a boat under power in the currently defined special sea duck areas in the Atlantic Flyway. These recommendations were consistent with the recommendations presented by the Atlantic Flyway Council during the April 6, 2021, SRC meeting for initial discussion. We announced these possible changes to sea duck hunting regulations in the Atlantic Flyway in the August 31, 2021, proposed rule to allow the greatest opportunity for public review and comment.

Service Response: We agree with the Atlantic Flyway Council's recommendations for the sea duck harvest regulations in the Atlantic Flyway. Special season regulations are used to provide additional hunting opportunity for species considered to be underutilized. We have authorized a special sea duck season (including eiders, long-tailed duck, and scoters) in the Atlantic Flyway since 1938. By 1973, 13 of the 17 Atlantic Flyway States allowed special seasons consisting of 107 days with a daily bag limit of 7 sea ducks. We reduced the scoter daily bag limit to 4 ducks in 1993. In 2016, we reduced the season length from 107 to 60 days and the daily bag limit from 6 to 5 sea ducks of which no more than 4 may be eiders, long-tailed ducks, or scoters. We anticipated the 2016 restrictions would reduce average annual sea duck harvest by approximately 25 percent compared to average annual harvest during the period 2011-2015. See the March 28, 2016, Federal Register (81 FR 17305) for a discussion of the Sea Duck Harvest Potential Assessment completed at that time.

The changes to the 2016 Atlantic Flyway sea duck regulations did not achieve the target reduction in total sea duck harvest. Therefore, we are supportive of the changes recommended by the Atlantic Flyway Council due to the continued concern regarding the status and trends of sea duck populations in the Atlantic Flyway, and our desire to reduce sea duck harvest in the Atlantic Flyway below the average annual harvest observed during 2011-2015. Regarding existing regulation that allows shooting of crippled waterfowl from a boat under power in the currently defined special sea duck area, the purpose of this regulation is to protect human safety and minimize duck crippling loss associated with hunting ducks at sea in the Atlantic Flyway. Protecting human safety and minimizing duck crippling loss are important considerations in duck hunting at sea regardless of whether this is during a special or regular duck hunting season.

3. Mergansers

Council Recommendations: The Atlantic Flyway Council recommended removing the species-specific restriction of two hooded mergansers beginning with the 2022-23 season. Hooded mergansers would become part of an aggregate merganser (common, red-breasted, and hooded) bag limit. The Mississippi and Central Flyway Councils supported the recommendation if an evaluation was conducted to determine the effects of the change on merganser populations and harvest.

Service Response: We agree with the Atlantic Flyway Council recommendation to remove the 2 hooded merganser daily bag limit and implementation of an aggregate merganser bag (common, red-breasted, and hooded) beginning with the 2022 season. The Service also agrees with the recommendation from the Mississippi Flyway Council that the Atlantic Flyway Council should conduct an evaluation of the regulation change on merganser populations and harvest. This assessment should be conducted following the completion of the 2024-25 season.

4. Canada and Cackling Geese

B. Regular Seasons

Council Recommendations: The Atlantic Flyway Council recommended 3 changes to the dark goose season framework in the Atlantic Flyway including:

1. Adopting the restrictive regulatory option as described in the Atlantic Flyway Council's Atlantic Population (AP) Canada Geese Harvest Strategy (30-day season between December 25 through January 25 with a daily bag limit of 1 goose) for all AP Canada geese zones in the U.S. portion of the Atlantic Flyway including North Carolina.

2. The addition of a special late season in Vermont, the Lake Champlain Zone of New York, and the AP Canada geese zones in Connecticut and Massachusetts. The season may be December 1-February 15 in Vermont, and the Lake Champlain Zone of New York and December 15-February 15 in the AP Canada geese zones of Connecticut and Massachusetts. The daily bag limit is 5 geese.

3. Eliminating the Southern James Bay Population (SJBP) of Canada geese zone in Pennsylvania with this area becoming part of Pennsylvania's Atlantic Flyway Resident Population (RP) of Canada geese zone.

The Pacific Flyway Council recommended several changes to the Canada and cackling goose and brant season framework in the Pacific Flyway. Specifically:

1. Increasing the daily bag limit for Canada and cackling geese and brant in Arizona, Colorado, Idaho, Montana, Nevada, New Mexico, Utah, and Wyoming from 4 to 5 geese in the aggregate;

2. Changing the closing date for Canada and cackling geese and brant in Utah's Wasatch Front Zone from the first Sunday in February to February 15;

3. Approving a 3-segment season option for Canada and cackling geese in California's Balance of State Zone; and

4. Decreasing the daily bag limit for Canada and cackling geese in Washington's Southwest Permit Zone and Oregon's Northwest Permit Zone from 4 to 3 geese in the aggregate.

Service Response: We agree with the Atlantic Flyway Council's 3 recommended changes to the Canada and cackling goose season framework in the Atlantic Flyway. The Service and Atlantic Flyway Council have been concerned with the status of AP Canada geese for several years, and the restrictive regulatory alternative is commensurate with the population's status. More specifically, AP Canada geese declined in abundance precipitously (from 118,000 to 34,000 breeding pairs) between 1988 and 1995 due to high harvest pressure and poor production. Hunting season restrictions were enacted in response to the decline. These restrictions and several years of favorable nesting conditions and good gosling production resulted in a rapid recovery of the population, and by 2002 the breeding pair estimate had rebounded to 182,000. For the next 15 years, pair counts remained relatively stable, fluctuating between 161,000 and 216,000 breeding pairs. However, in the 2018 breeding season the breeding pair estimate dropped abruptly to 112,000, and gosling productivity was almost nonexistent. The 2019 breeding pair estimate was statistically similar to 2018, and productivity was near the long-term average. No breeding pair survey was conducted in 2020 or 2021 due to logistical constraints arising from the coronavirus pandemic.

In 2021, the Atlantic Flyway Council, in collaboration with the Service, updated their 2013 harvest strategy for AP Canada geese. The revision incorporated several additional years of experience on effects of contemporary harvest regulations on AP Canada geese abundance and recent advances in population modeling and other analytical tools. The harvest strategy supports the Council's 2008 management plan for AP Canada geese and is consistent with the overarching goal of the plan: To maintain AP Canada geese and their habitats at a level that provides optimum opportunities for people to use and enjoy geese on a sustainable basis.

Regarding the additional special late seasons in 3 areas, these areas account for a small proportion of the AP Canada goose harvest. Since 1999, the New England region (including AP, NAP, and RP Canada goose zones) has accounted for only 1.3% of all AP Canada goose band recoveries. The special late season occurs after most AP Canada geese have migrated from the region (early to mid-December). The objective of the special late season is to increase harvest of RP Canada geese while minimizing impacts to AP Canada geese. An existing late special season with a similar objective has been allowed in parts of New Jersey since 1994. The additional special late seasons will provide increased opportunity for hunters and an additional tool for State agencies to manage resident populations of geese.

Regarding the Council's recommendation to eliminate the SJBP Canada geese zone in Pennsylvania, the SJBP of Canada geese is no longer recognized as a separate population by the Service or the Atlantic and Mississippi Flyway Councils. The SJBP of Canada geese is now considered part of the larger Southern Hudson Bay Population (SHBP) of Canada geese, which is monitored and managed according to the Mississippi Flyway Council's management plan. Elimination of the SJBP Canada geese zone in Pennsylvania and incorporation of this area into the RP Canada geese zone will expose Canada geese in the area to slightly more liberal regulations but will not appreciably increase harvest of AP Canada geese. This change will simplify regulations, provide increased hunting opportunity, and provide increased opportunity to manage resident population of geese.

We agree with the Pacific Flyway Council's recommendation to increase the daily bag limit for Canada and cackling geese and brant in Arizona, Colorado, Idaho, Montana, Nevada, New Mexico, Utah, and Wyoming from 4 to 5 geese in the aggregate. Cackling geese and brant are uncommon in interior States in the Pacific Flyway. The basic goose season framework for the Pacific Flyway includes these species in an aggregate bag limit for interior States because of the difficulty in hunter differentiation of these species and because harvest of cackling geese and brant is negligible to their population status. The western Canada goose is the primary subspecies of Canada goose occurring in interior States in the Pacific Flyway. There are two populations of western Canada goose in the Pacific Flyway: Rocky Mountain Population (RMP) and Pacific Population (PP). The most recent 3-year (2017-2019) average population estimate for RMP western Canada geese is 205,338 and is well above the Council's population objective of 117,000 geese. Similarly, the most recent 3-year (2017-2019) average population estimate for PP western Canada geese is 330,725 and is well above the Council's population objective of about 120,000 geese. Since 1970, western Canada goose abundance in the Pacific Flyway has increased 5.4% per year based on the Waterfowl Breeding Population and Habitat Survey. The Pacific Flyway Council's management plans for PP and RMP Canada geese prescribe liberalized hunting seasons when population status is over objective levels. The proposed change would simplify regulations in States split into two flyways (i.e., Colorado, Montana, Wyoming, and New Mexico). Currently, there is a daily bag limit of 4 geese in the Pacific Flyway portions of these States and 5 geese in the Central Flyway portions.

We also agree with the Council's recommendation to change the closing date for Canada and cackling geese and brant in Utah's Wasatch Front Zone from the first Sunday in February to February 15. The western Canada goose is the primary subspecies of Canada goose in Utah. Abundance of RMP Canada geese is well above the Council's population objective (see above). The Utah Division of Wildlife Resources has been collecting data on Canada geese in urban areas along the Wasatch Front (i.e., Salt Lake, Weber, Davis, and Utah Counties) since 2006. Data indicate abundance of urban geese has increased up to about 10,000 geese. Approximately 58.3% of all resident RMP Canada geese banded in Utah are harvested during the last 3 weeks of the season in the Wasatch Front Zone. Allowing a later closing date will provide additional flexibility to the State to address increasing depredation and nuisance complaints associated with Canada geese in urban areas and provide hunting opportunity.

We also agree with the Council's recommendation to allow a 3-segment split hunting season for Canada and cackling geese in California's Balance of State Zone. Current frameworks allow a 3-segment split for Canada and cackling geese, but this arrangement requires Pacific Flyway Council and Service approval and a 3-year evaluation by each participating State. The primary subspecies of white-cheeked geese in California are the western Canada goose and Aleutian cackling goose. The current 3-year (2019-2021) average population estimate for Aleutian cackling geese is 168,009 and is well above the Council's population objective of 60,000 geese. Similarly, abundance of PP Canada geese is well above the Council's population objective (see above). Allowing the Canada and cackling geese season to be split into 3 segments will provide additional flexibility to the State to address increasing depredation and nuisance complaints associated with Canada and cackling geese and provide hunting opportunity. In addition, a 3-segment season would be consistent with the current light goose and white-fronted goose seasons in California's Balance of State Zone, which would help simplify regulations.

Finally, we also agree with the Council's recommendation that the daily bag limit for Canada and cackling geese in Washington's Southwest Permit Zone and Oregon's Northwest Permit Zone be reduced from 4 to 3 geese in the aggregate. The most recent 3-year (2018, 2019, 2021) average of available fall projected population estimates for minima cackling geese is 206,763 and is below the Council's population objective of 250,000 ± 10 percent (225,000-275,000). Band recovery data from hunter harvest of minima cackling geese indicates that most (77%) of the fall-winter harvest occurs in northwest Oregon and southwest Washington, and the next highest harvest area (6%) is western Alaska (Units 9, 17, and 18). Accordingly, the Pacific Flyway Council also recommended that the daily bag limit for Canada and cackling geese in parts of Alaska be reduced from 6 to 4 geese in the aggregate. The decrease in the daily bag limits is specifically intended to maintain objective abundance of minima cackling geese and is consistent with the Council's harvest strategy for these birds.

6. Brant

Council Recommendations: The Pacific Flyway Council recommended that the 2022-23 brant season frameworks be determined based on the harvest strategy in the Council's management plan for the Pacific population of brant pending results of the 2022 Winter Brant Survey (WBS). If results of the 2022 WBS are not available, results of the most recent WBS should be used.

Service Response: We agree with the Pacific Flyway Council's recommendation. As we discussed in the August 21, 2020, Federal Register (85 FR 51854), the harvest strategy used to determine the Pacific brant season frameworks does not fit well within the current regulatory process. In developing the annual proposed frameworks for Pacific brant, the Pacific Flyway Council and the Service use the 3-year average number of brant counted during the WBS in the Pacific Flyway to determine annual allowable season length and daily bag limits. The WBS is conducted each January, which is after the date that proposed frameworks are formulated in the regulatory process. However, the data are typically available by the expected publication of final frameworks. When we acquire the survey data, we will determine the appropriate allowable harvest for the Pacific brant season according to the harvest strategy in the Pacific Flyway Council's management plan for the Pacific population of brant published in the August 21, 2020, Federal Register (85 FR 51854) and publish the results in the final frameworks rule.

8. Swans

Council Recommendations: The Atlantic Flyway Council recommended the initial allocation of swan hunting permits of 347 in Delaware, 4,721 in North Carolina, and 532 in Virginia (5,600 total) for the 2022-23 seasons and allowing unissued swan hunting permits to be reallocated to States within the Atlantic Flyway.

Service Response: We agree with the Atlantic Flyway Council's recommendations for changes to the swan hunting permit allocation in the Atlantic Flyway. In 2021, the Atlantic Flyway Council updated an assessment to allocate allowable tundra swan hunting permits among States in the Atlantic Flyway based on the distribution of tundra swans from the 3 most recent Mid-winter Survey counts. The permit allocation is reevaluated every 3 years. The evaluation in 2021 provided that the 3-year (2019-2021) average distribution of tundra swan abundance during the Mid-winter Survey was 6.2% in Delaware, 84.3% in North Carolina, and 9.5% in Virginia. Given the current allowable harvest of 5,600 tundra swans in the Atlantic Flyway, the allocation of swan hunting permits is 347 in Delaware, 4,721 in North Carolina, and 532 in Virginia. This is a minor change from the 2021 season permit allocation, which was 67 in Delaware, 4,895 in North Carolina, and 638 in Virginia. Distributing allowable tundra swan harvest among States based on the distribution of tundra swans during winter is consistent with the Atlantic, Mississippi, Central, and Pacific Flyway Council's management plan for the Eastern Population (EP) of tundra swans and provides equitable hunting opportunity among States. Finally, a State may have insufficient applicants to issue all available swan hunting permits. The swan season framework currently allows a second permit to be issued to hunters from unissued permits remaining after the first drawing. Should permits still remain unissued, any portion of these unused permits would be available for temporary redistribution to other States with swan seasons in the flyway. This procedure is consistent with the Councils' management plan for EP tundra swans, provides the greatest tundra swan hunting opportunity, and maintains harvest within allowable limits for the population and within each flyway.

9. Sandhill Cranes

Council Recommendations: The Mississippi Flyway Council recommended a 1-year extension to the 3-year (2019, 2020, and 2021) experimental sandhill crane season in Alabama. The Central and Pacific Flyway Councils recommended that allowable harvest of Rocky Mountain Population (RMP) of cranes be determined based on the formula described in the Pacific and Central Flyway Councils' Management Plan for RMP cranes pending results of the fall 2021 abundance and recruitment surveys.

Service Response: We agree with the Mississippi Flyway Council's recommendation for a 1-year extension to the 3-year (2019, 2020, and 2021) experimental sandhill crane season in Alabama. As we provided above under Process for Establishing Annual Migratory Game Bird Hunting Regulations, we now develop proposed hunting season frameworks for a given year in the fall of the prior year. According to the Eastern Population Sandhill Crane Management Plan and Memorandum of Agreement between the Service and Atlantic Flyway Council, 3 years of data are needed for evaluation before experimental seasons can be approved as operational. Alabama will administer the third year of an experimental sandhill crane season during the 2021 hunting season, and has only 2 years of data to evaluate at the time of the proposed regulations for the 2022-23 season. Approval of an additional year for the 3-year experimental sandhill crane season in Alabama allows the season to continue during the 2022 hunting season when 3 years of experimental season data will be available and allow consideration of an operational season beginning with the 2023 hunting season.

We agree with the Central and Pacific Flyway Councils' recommendations to determine allowable harvest of RMP cranes using the formula in the Pacific and Central Flyway Councils' management plan for RMP cranes pending results of the fall 2021 abundance and recruitment surveys. As we discussed in the March 28, 2016, Federal Register (81 FR 17302), the harvest strategy used to calculate the allowable harvest of RMP cranes does not fit well within the current regulatory process. In developing the annual proposed frameworks for RMP cranes, the Flyway Councils and the Service use the fall abundance and recruitment surveys of RMP cranes to determine annual allowable harvest. Results of the fall abundance and recruitment surveys of RMP cranes are released between December 1 and January 31 each year, which is after the date proposed frameworks are developed. However, the data are typically available by the expected publication of final frameworks. When we acquire the survey data, we will determine the appropriate allowable harvest for the RMP crane season according to the harvest strategy in the Central and Pacific Flyway Councils' management plan for RMP cranes published in the March 28, 2016, Federal Register (81 FR 17302) and publish the results in the final frameworks rule.

16. Doves

Council Recommendations: The Atlantic, Mississippi, Central, and Pacific Flyway Councils recommended adoption of the standard regulatory alternative as prescribed in the national mourning dove harvest strategy for their respective Mourning Dove Management Units. The standard regulatory alternative consists of a 90-day season and 15-bird daily bag limit for States within the Eastern and Central Management Units, and a 60-day season and 15-bird daily bag limit for States in the Western Management Unit.

Service Response: Based on the harvest strategies and current population status, we agree with the recommended selection of the standard season frameworks for doves in the Eastern, Central, and Western Management Units for the 2022-23 season.

17. Alaska

Council Recommendations: The Pacific Flyway Council recommended that the daily bag limit for Canada and cackling geese (i.e., minima cackling geese) be reduced from 6 to 4 geese in the aggregate in Units 9, 17, and 18.

Service Response: We agree with the Pacific Flyway Council's recommendation. The most recent 3-year (2018, 2019, 2021) average of available fall projected population estimates for minima cackling geese is 206,763 and is below the Council's population objective of 250,000 ± 10 percent (225,000-275,000). Band recovery data from hunter harvest of minima cackling geese indicates that most (77%) of the fall-winter harvest occurs in northwest Oregon and southwest Washington, and the next highest harvest area (6%) is western Alaska (Units 9, 17, and 18). Accordingly, the Pacific Flyway Council also recommended that the daily bag limit for Canada and cackling geese in parts of Oregon and Washington be reduced from 4 to 3 geese in the aggregate. The decrease in the daily bag limits is specifically intended to maintain objective abundance of minima cackling geese and is consistent with the Council's harvest strategy for these birds.

Public Comments

The Department of the Interior's policy is, whenever possible, to afford the public an opportunity to participate in the rulemaking process. Accordingly, we invite interested persons to submit written comments, suggestions, or recommendations regarding the proposed regulations. Before promulgating final migratory game bird hunting regulations, we will consider all comments we receive. These comments, and any additional information we receive, may lead to final regulations that differ from these proposals.

You may submit your comments and materials concerning this proposed rule by one of the methods listed in ADDRESSES. We will not accept comments sent by email or fax. We will not consider hand-delivered comments that we do not receive, or mailed comments that are not postmarked, by the date specified in DATES.

We may post all comments in their entirety—including your personal identifying information—on https://www.regulations.gov. Before including your address, phone number, email address, or other personal identifying information in your comment, you should be aware that your entire comment—including your personal identifying information—may be made publicly available at any time. While you can ask us in your comment to withhold your personal identifying information from public review, we cannot guarantee that we will be able to do so. Comments and materials we receive, as well as supporting documentation we used in preparing this proposed rule, will be available for public inspection on https://www.regulations.gov, or by appointment, during normal business hours, at the U.S. Fish and Wildlife Service, Division of Migratory Bird Management, 5275 Leesburg Pike, Falls Church, Virginia. We will consider, but possibly may not respond in detail to, each comment. As in the past, we will summarize all comments we receive during the comment period and respond to them after the closing date in the preambles of any final rules.

Required Determinations

Based on our most current data, we are affirming our required determinations made in the August 31, 2021, proposed rule; for descriptions of our actions to ensure compliance with the following statutes and Executive Orders, see our August 31, 2021, proposed rule (86 FR 48649):

• National Environmental Policy Act (NEPA) Consideration;

• Endangered Species Act Consideration;

• Regulatory Flexibility Act;

• Small Business Regulatory Enforcement Fairness Act;

• Paperwork Reduction Act of 1995;

• Unfunded Mandates Reform Act;

• Executive Orders 12630, 12866, 12988, 13132, 13175, 13211, and 13563.

Authority

The rules that eventually will be promulgated for the 2022-23 hunting season are authorized under 16 U.S.C. 703-712 and 16 U.S.C. 742 a-j.

List of Subjects in 50 CFR Part 20

Exports, Hunting, Imports, Reporting and recordkeeping requirements, Transportation, Wildlife.

Proposed Regulations Frameworks for 2022-23 Hunting Seasons on Certain Migratory Game Birds

Pursuant to the Migratory Bird Treaty Act and delegated authorities, the Department of the Interior is proposing the following frameworks for outside dates, season lengths, shooting hours, bag and possession limits, and areas within which States may select seasons for hunting migratory game birds between the dates of September 1, 2022, and March 10, 2023. These frameworks are summarized below.

Table of Contents

a. General

i. Flyways and Management Units

1. Waterfowl Flyways

2. Mallard Management Units

3. Mourning Dove Management Units

4. Woodcock Management Regions

ii. Definitions

iii. Migratory Game Bird Seasons in the Atlantic Flyway

b. Season Frameworks

i. Special Youth and Veterans—Active Military Personnel Waterfowl Hunting Days

i. Special Early Teal Seasons

iii. Special Early Teal-Wood Duck Seasons

iv. Duck, Merganser, Coot and Goose Seasons

1. Atlantic Flyway

a. Duck, Merganser and Coot Seasons

b. Special Early Canada and Cackling Goose Seasons

c. Dark Goose Seasons

d. Light Goose Seasons

e. Brant Seasons

2. Mississippi Flyway

a. Duck, Merganser, and Coot Seasons

b. Canada and Cackling Goose Seasons

c. White-Fronted Goose Seasons

d. Brant Seasons

e. Dark Goose Seasons

f. Light Goose Seasons

3. Central Flyway

a. Duck, Merganser, and Coot Seasons

b. Special Early Canada and Cackling Goose Seasons

c. Canada Goose, Cackling Goose, and Brant Seasons

d. White-Fronted Goose Seasons

e. Light Goose Seasons

4. Pacific Flyway

a. Duck, Merganser, Coot, and Gallinule Seasons

b. Goose Seasons

i. Special Early Canada and Cackling Goose Seasons

ii. Canada Goose Cackling Goose and Brant Seasons

iii. Brant Seasons

iv. White-Fronted Goose Seasons

v. Light Goose Seasons

5. Swan Seasons

6. Sandhill Crane Seasons

7. Gallinule Seasons

8. Rail Seasons

9. Snipe Seasons

10. American Woodcock Seasons

11. Band-tailed Pigeon Seasons

12. Dove Seasons

13. Alaska

a. Duck, Goose, Sandhill Crane, and Snipe Seasons

b. Tundra Swan Seasons

14. Hawaii

a. Mourning Dove Seasons

15. Puerto Rico

a. Dove and Pigeon Seasons

b. Duck, Coot, Gallinule, and Snipe Seasons

16. Virgin Islands

a. Dove and Pigeon Seasons

b. Duck Seasons

17. Special Falconry Regulations

c. Area, Unit, and Zone Descriptions

a. General

Outside Dates: Outside dates are the earliest and latest dates within which States may establish hunting seasons. All outside dates specified below are inclusive.

Season Lengths: Season lengths are the maximum number of days hunting may occur within the outside dates for hunting seasons. Days are consecutive and concurrent for all species included in each season framework unless otherwise specified.

Season Segments: Season segments are the maximum number of consecutive-day segments the season lengths may be divided. The sum of the hunting days for all season segments may not exceed the season lengths allowed.

Zones: Unless otherwise specified, States may select hunting seasons by zones. Zones for duck seasons (and associated youth and veterans—active military waterfowl hunting days, gallinule seasons, and snipe seasons) and dove seasons may be selected only in years we declare such changes can be made (i.e., open seasons for zones and splits) and according to federally established guidelines for duck and dove zones and split seasons.

Area, Zone, and Unit Descriptions: Areas open to hunting must be described, delineated, and designated as such in each State's hunting regulations and published in the Federal Register as a Federal migratory bird hunting frameworks final rule. Geographic descriptions related to regulations are contained in a later portion of this document.

Shooting and Hawking (taking by falconry) Hours: Unless otherwise specified, from one-half hour before sunrise to sunset daily.

Possession Limits: Unless otherwise specified, possession limits are three times the daily bag limits.

Permits: For some species of migratory birds, the Service authorizes the use of permits to regulate harvest or monitor their take by hunters, or both. In such cases, the Service determines the amount of harvest that may be taken during hunting seasons during its formal regulations-setting process, and the States then issue permits to hunters at levels predicted to result in the amount of take authorized by the Service. Thus, although issued by States, the permits would not be valid unless the Service approved such take in its regulations.

These federally authorized, State-issued permits are issued to individuals, and only the individual whose name and address appears on the permit at the time of issuance is authorized to take migratory birds at levels specified in the permit, in accordance with provisions of both Federal and State regulations governing the hunting season. The permit must be carried by the permittee when exercising its provisions and must be presented to any law enforcement officer upon request. The permit is not transferrable or assignable to another individual, and may not be sold, bartered, traded, or otherwise provided to another person. If the permit is altered or defaced in any way, the permit becomes invalid.

i. Flyways and Management Units

We generally set migratory bird hunting frameworks for the conterminous U.S. States by Flyway or Management Unit/Region. Frameworks for Alaska, Hawaii, Puerto Rico, and the Virgin Islands are contained in separate sections near the end of the frameworks portion of this document. The States included in the Flyways and Management Units/Regions are described below.

1. Waterfowl Flyways

Atlantic Flyway: Includes Connecticut, Delaware, Florida, Georgia, Maine, Maryland, Massachusetts, New Hampshire, New Jersey, New York, North Carolina, Pennsylvania, Rhode Island, South Carolina, Vermont, Virginia, and West Virginia.

Mississippi Flyway: Includes Alabama, Arkansas, Illinois, Indiana, Iowa, Kentucky, Louisiana, Michigan, Minnesota, Mississippi, Missouri, Ohio, Tennessee, and Wisconsin.

Central Flyway: Includes Colorado (east of the Continental Divide), Kansas, Montana (Counties of Blaine, Carbon, Fergus, Judith Basin, Stillwater, Sweetgrass, Wheatland, and all counties east thereof), Nebraska, New Mexico (east of the Continental Divide except the Jicarilla Apache Indian Reservation), North Dakota, Oklahoma, South Dakota, Texas, and Wyoming (east of the Continental Divide).

Pacific Flyway: Includes Arizona, California, Idaho, Nevada, Oregon, Utah, Washington, and those portions of Colorado, Montana, New Mexico, and Wyoming not included in the Central Flyway.

2. Mallard Management Units

High Plains Management Unit: Roughly defined as that portion of the Central Flyway that lies west of the 100th meridian. See Area, Unit, and Zone Descriptions, Ducks (Including Mergansers) and Coots, below, for specific boundaries in each State.

Columbia Basin Management Unit: In Washington, all areas east of the Pacific Crest Trail and east of the Big White Salmon River in Klickitat County; and in Oregon, the counties of Gilliam, Morrow, and Umatilla.

3. Mourning Dove Management Units

Eastern Management Unit: All States east of the Mississippi River, and Louisiana.

Central Management Unit: Arkansas, Colorado, Iowa, Kansas, Minnesota, Missouri, Montana, Nebraska, New Mexico, North Dakota, Oklahoma, South Dakota, Texas, and Wyoming.

Western Management Unit: Arizona, California, Idaho, Nevada, Oregon, Utah, and Washington.

4. Woodcock Management Regions

Eastern Management Region: Connecticut, Delaware, Florida, Georgia, Maine, Maryland, Massachusetts, New Hampshire, New Jersey, New York, North Carolina, Pennsylvania, Rhode Island, South Carolina, Vermont, Virginia, and West Virginia.

Central Management Region: Alabama, Arkansas, Illinois, Indiana, Iowa, Kansas, Kentucky, Louisiana, Michigan, Minnesota, Mississippi, Missouri, Nebraska, North Dakota, Ohio, Oklahoma, South Dakota, Tennessee, Texas, and Wisconsin.

ii. Definitions

For the purpose of the hunting regulations listed below, the collective terms “dark” and “light” geese include the following species:

Dark geese: Canada geese, cackling geese, white-fronted geese, brant (except in Alaska, California, Oregon, Washington, and the Atlantic Flyway), and all other goose species except light geese.

Light geese: Snow (including blue) geese and Ross's geese.

iii. Migratory Game Bird Seasons in the Atlantic Flyway

In the Atlantic Flyway States of Connecticut, Delaware, Maine, Maryland, Massachusetts, New Jersey, North Carolina, and Pennsylvania, where Sunday hunting of migratory birds is prohibited statewide by State law or regulation, all Sundays are closed to the take of all migratory game birds.

b. Season Frameworks

i. Special Youth and Veterans-Active Military Personnel Waterfowl Hunting Days

Outside Dates and Season Lengths: States may select 2 days per duck-hunting zone, designated as “Youth Waterfowl Hunting Days,” and 2 days per duck-hunting zone, designated as “Veterans and Active Military Personnel Waterfowl Hunting Days,” in addition to their regular duck seasons. The days may be held concurrently or may be nonconsecutive. The Youth Waterfowl Hunting Days must be held outside any regular duck season on weekends, holidays, or other non-school days when youth hunters would have the maximum opportunity to participate. Both sets of days may be held up to 14 days before or after any regular duck-season frameworks or within any split of a regular duck season, or within any other open season on migratory birds.

Daily Bag Limits: The daily bag limits may include ducks, geese, swans, mergansers, coots, and gallinules. Bag limits are the same as those allowed in the regular season except in States that implement a hybrid season for scaup (i.e., different bag limits during different portions of the season), in which case the bag limit will be 2 scaup per day. Flyway species and area restrictions would remain in effect.

Participation Restrictions for Youth Waterfowl Hunting Days: States may use their established definition of age for youth hunters. However, youth hunters must be under the age of 18. In addition, an adult at least 18 years of age must accompany the youth hunter into the field. This adult may not duck hunt but may participate in other seasons that are open on the special youth day. Swans may be taken only by participants possessing applicable swan permits.

Participation Restrictions for Veterans and Active Military Personnel Waterfowl Hunting Days: Veterans (as defined in section 101 of title 38, United States Code) and members of the Armed Forces on active duty, including members of the National Guard and Reserves on active duty (other than for training), may participate. Swans may be taken only by participants possessing applicable swan permits.

ii. Special Early Teal Seasons

Areas:

Atlantic Flyway: Delaware, Florida, Georgia, Maryland, North Carolina, South Carolina, and Virginia.

Mississippi Flyway: Alabama, Arkansas, Illinois, Indiana, Iowa, Kentucky, Louisiana, Michigan, Minnesota, Mississippi, Missouri, Ohio, Tennessee, and Wisconsin. The season in Minnesota is experimental.

Central Flyway: Colorado (part), Kansas, Nebraska, New Mexico (part), Oklahoma, and Texas.

Outside Dates: September 1-30.

Season Lengths: 16 days.

Daily Bag Limits: 6 teal.

Shooting Hours: One-half hour before sunrise to sunset, except in the States of Arkansas, Illinois, Indiana, Iowa, Michigan, Minnesota, Missouri, Ohio, South Carolina, and Wisconsin, where the hours are from sunrise to sunset.

iii. Special Early Teal-Wood Duck Seasons

Areas: Florida, Kentucky, and Tennessee.

Seasons: In lieu of a special early teal season, a 5-day teal-wood duck season may be selected in September. The daily bag limit may not exceed 6 teal and wood ducks in the aggregate, of which no more than 2 may be wood ducks. In addition, a 4-day teal-only season may be selected in September either immediately before or immediately after the 5-day teal-wood duck season. The daily bag limit is 6 teal.

iv. Duck, Merganser, Coot, and Goose Seasons

1. Atlantic Flyway

a. Duck, Merganser, and Coot Seasons

Outside Dates: Saturday nearest September 24 (September 24)-January 31.

Season Lengths and Daily Bag Limits: 60 days. The daily bag limit is 6 ducks, including no more than 2 mallards (no more than 1 of which can be female), 2 black ducks, 1 pintail, 1 mottled duck, 1 fulvous whistling duck, 3 wood ducks, 2 redheads, 2 canvasbacks, 4 sea ducks (including no more than 3 scoters, 3 long-tailed ducks, or 3 eiders and no more than 1 female eider). The season for scaup may be split into 2 segments, with one segment consisting of 40 consecutive days with a 1-scaup daily bag limit, and the second segment consisting of 20 consecutive days with a 2-scaup daily bag limit. The daily bag limit of mergansers is 5. In States that include mergansers in the duck bag limit, the daily limit is the same as the duck bag limit. The daily bag limit of coots is 15.

Closed Seasons: There is no open season on the harlequin duck.

Zones and Split Seasons: Delaware, Florida, Georgia, Rhode Island, South Carolina, and West Virginia may split their seasons into 3 segments. Maine, Massachusetts, New Hampshire, New Jersey, and Vermont may select seasons in each of 3 zones; Pennsylvania may select seasons in each of 4 zones; and New York may select seasons in each of 5 zones; and all these States may split their season in each zone into 2 segments. Connecticut, Maryland, North Carolina, and Virginia may select seasons in each of 2 zones; and all these States may split their season in each zone into 3 segments. Connecticut, Maryland, North Carolina, and Virginia must conduct an evaluation of the impacts of zones and splits on hunter dynamics (e.g., hunter numbers, satisfaction) and harvest during the 2021-25 seasons.

Special Provisions: The seasons, limits, and shooting hours should be the same between New York's Lake Champlain Zone and Vermont's Lake Champlain Zone, and between Vermont's Connecticut River Zone and New Hampshire's Inland Zone.

A craft under power may be used to shoot and retrieve dead or crippled sea ducks in the Sea Duck Area in the Atlantic Flyway. The Sea Duck Area includes all coastal waters and all waters of rivers and streams seaward from the first upstream bridge in Maine, New Hampshire, Massachusetts, Rhode Island, Connecticut, and New York; in New Jersey, all coastal waters seaward from the International Regulations for Preventing Collisions at Sea (COLREGS) Demarcation Lines shown on National Oceanic and Atmospheric Administration (NOAA) Nautical Charts and further described in 33 CFR 80.165, 80.501, 80.502, and 80.503; in any waters of the Atlantic Ocean and in any tidal waters of any bay that are separated by at least 1 mile of open water from any shore, island, and emergent vegetation in South Carolina and Georgia; and in any waters of the Atlantic Ocean and in any tidal waters of any bay that are separated by at least 800 yards of open water from any shore, island, and emergent vegetation in Delaware, Maryland, North Carolina, and Virginia; and provided that any such areas have been described, delineated, and designated as special sea duck hunting areas under the hunting regulations adopted by the respective States.

b. Special Early Canada and Cackling Goose Seasons

Outside Dates and Season Lengths: 15 days during September 1-15 in the Eastern Unit of Maryland; 30 days during September 1-30 in Connecticut, Florida, Georgia, New Jersey, Long Island Zone of New York, North Carolina, Rhode Island, and South Carolina; and 25 days during September 1-25 in the remainder of the Atlantic Flyway.

Daily Bag Limits: 15 geese in the aggregate.

Shooting Hours: One-half hour before sunrise to sunset, except that during any special early Canada and cackling goose season, shooting hours may extend to one-half hour after sunset if all other waterfowl seasons are closed in the specific applicable area.

c. Dark Goose Seasons

Outside Dates, Season Lengths, and Daily Bag Limits: Regulations are State and zone specific as provided below.

Area | Outside dates | Season length | Season segments | Daily bag limit
Connecticut:
Atlantic Population (AP) Zone | Oct 10-Feb 5 | 30 | 2 | 1
AP Zone Late Season Area (Special Season) | Dec 15-Feb 15 | 63 | 1 | 5
North Atlantic Population (NAP) Zone | Oct 1-Jan 31 | 60 | 2 | 2
NAP Late Season Area (Special Season) | Jan 15-Feb 15 | 32 | 1 | 5
Resident Population (RP) Zone | Oct 1-Feb 15 | 80 | 3 | 5
Delaware | Nov 15-Feb 5 | 30 | 2 | 1
Florida | Oct 1-Mar 10 | 80 | 3 | 5
Georgia | Oct 1-Mar 10 | 80 | 3 | 5
Maine:
NAP North High Harvest Zone | Oct 1-Jan 31 | 60 | 2 | 2
NAP South High Harvest Zone | Oct 1-Jan 31 | 60 | 2 | 2
NAP Low Harvest Zone | Oct 1-Feb 15 | 70 | 2 | 3
Maryland:
AP Zone | Nov 15-Feb 5 | 30 | 2 | 1
RP Zone | Nov 15-Mar 10 | 80 | 3 | 5
Massachusetts:
AP Zone | Oct 10-Feb 5 | 30 | 2 | 2
AP Zone Late Season Area (Special season) | Dec 15-Feb 15 | 63 | 1 | 5
NAP Zone | Oct 1-Jan 31 | 60 | 2 | 2
NAP Late Season Area (Special season) | Jan 15-Feb 15 | 32 | 1 | 5
New Hampshire | Oct 1-Jan 31 | 60 | 2 | 2
New Jersey:
AP Zone | Fourth Saturday in Oct (22)-Feb 5 | 30 | 2 | 2
NAP Zone | Oct 1-Jan 31 | 60 | 2 | 2
NAP Late Season Area (Special season) | Jan 15-Feb 15 | 32 | 1 | 5
New York:
AP Zone | Fourth Saturday in Oct (22)-Feb 5 | 30 | 2 | 2
AP (Lake Champlain) Zone | Oct 10-Feb 5 | 30 | 2 | 2
NAP High Harvest Zone | Oct 1-Jan 31 | 60 | 2 | 2
NAP Low Harvest Zone | Oct 1-Feb 15 | 70 | 2 | 3
Western Long Island RP Zone | Saturday nearest Sep 24 (24)-last day of Feb (28) | 107 | 3 | 8
Remainder of RP Zone | Fourth Saturday in Oct (22)-last day of Feb (28) | 80 | 3 | 5
AP (Lake Champlain) Zone Late Season (Special season) | Dec 1-Feb 15 | 77 | 1 | 5
North Carolina:
Northeast Zone | Saturday prior to Dec 25 (24)-Jan 31 | 14 | 1 | 1
RP Zone | Oct 1-Mar 10 | 80 | 3 | 5
Pennsylvania:
AP Zone | Fourth Saturday in Oct (22)-Feb 5 | 30 | 2 | 1
RP Zone | Fourth Saturday in Oct (22)-Mar 10 | 80 | 3 | 5
Rhode Island:
Statewide | Oct 1-Jan 31 | 60 | 2 | 2
Late Season Area (Special season) | Jan 15-Feb 15 | 32 | 2 | 5
South Carolina | Oct 1-Mar 10 | 80 | 3 | 5
Vermont:
Connecticut River Zone | Oct 1-Jan 31 | 60 | 2 | 3
Interior Zone | Oct 10-Feb 5 | 30 | 2 | 2
Lake Champlain Zone | Oct 10-Feb 5 | 30 | 2 | 2
Connecticut, Interior, and Lake Champlain Zones Late Season (Special Season) | Dec 1-Feb 15 | 77 | 1 | 5
Virginia:
AP Zone | Nov 15-Feb 15 | 30 | 2 | 1
RP Zone | Nov 15-Mar 10 | 80 | 3 | 5
West Virginia | Oct 1-Mar 10 | 80 | 3 | 5

d. Light Goose Seasons

Outside Dates: October 1-March 10.

Season Lengths: 107 days. Seasons may be split into 3 segments.

Daily Bag limits: 25 light geese. There is no possession limit.

e. Brant Seasons

Outside Dates: Saturday nearest September 24 (September 24)-January 31.

Season Lengths: 50 days. Seasons may be split into 2 segments.

Daily Bag Limits: 2 brant.

2. Mississippi Flyway

a. Duck, Merganser, and Coot Seasons

Outside Dates: Saturday nearest September 24 (September 24)-January 31.

Season Lengths and Daily Bag Limits: 60 days. The daily bag limit is 6 ducks, including no more than 4 mallards (no more than 2 of which may be females), 1 mottled duck, 2 black ducks, 1 pintail, 3 wood ducks, 2 canvasbacks, and 2 redheads. The season for scaup may be split into 2 segments, with one segment consisting of 45 days with a 2-scaup daily bag limit, and the second segment consisting of 15 days with a 1-scaup daily bag limit. The daily bag limit of mergansers is 5, only 2 of which may be hooded mergansers. In States that include mergansers in the duck bag limit, the daily limit is the same as the duck bag limit, only 2 of which may be hooded mergansers. The daily bag limit of coots is 15.

Zones and Split Seasons: Alabama, Arkansas, and Mississippi may split their seasons into 3 segments. Kentucky and Tennessee may select seasons in each of 2 zones; and Indiana, Iowa, Michigan, Minnesota, Missouri, Ohio and Wisconsin may select seasons in each of 3 zones; and all these States may split their season in each zone into 2 segments. Illinois may select seasons in each of 4 zones. Louisiana may select seasons in each of 2 zones and may split their season in each zone into 3 segments. Louisiana must conduct an evaluation of the impacts of zones and splits on hunter dynamics (e.g., hunter numbers, satisfaction) and harvest during the 2021-25 seasons.

b. Canada and Cackling Goose Seasons

Outside Dates: September 1 and February 15.

Season Lengths: 107 days, which may be split into 4 segments.

Daily Bag Limits: 5 geese in the aggregate.

Shooting Hours: One-half hour before sunrise to sunset, except that during September 1-15 shooting hours may extend to one-half hour after sunset for Canada and cackling geese if all other waterfowl and crane seasons are closed in the specific applicable area.

c. White-Fronted Goose Seasons

Outside Dates: September 1 and February 15.

Season Lengths and Daily Bag Limits: 74 days with a daily bag limit of 3 geese, 88 days with a daily bag limit of 2 geese, or 107 days with a daily bag limit of 1 goose. Seasons may be split into 4 segments.

d. Brant Seasons

Outside Dates: September 1 and February 15.

Season Lengths and Daily Bag Limits: 70 days with a daily bag limit of 2 brant or 107 days with a daily bag limit of 1 brant. Seasons may be split into 4 segments.

Special Provisions: In lieu of a separate brant season, brant may be included in the season for Canada and cackling geese with a daily bag limit of 5 geese in the aggregate.

e. Dark Goose Seasons

Areas: Alabama, Iowa, Indiana, Michigan, Minnesota, Ohio, and Wisconsin in lieu of separate seasons for Canada and cackling geese, white-fronted geese, and brant.

Outside Dates: September 1 and February 15.

Season Lengths: 107 days, which may be split into 4 segments.

Daily Bag Limits: 5 geese in the aggregate.

f. Light Goose Seasons

Outside Dates: September 1 and February 15.

Season Lengths: 107 days, which may be split into 4 segments.

Daily Bag and Possession Limits: The daily bag limit is 20 geese. There is no possession limit for light geese.

3. Central Flyway

a. Ducks, Merganser, and Coot Seasons

Outside Dates: Saturday nearest September 24 (September 24)-January 31.

Season Lengths and Duck Daily Bag Limits: 74 days, except in the High Plains Mallard Management Unit where the season length is 97 days and the last 23 days must be consecutive and may start no earlier than the Saturday nearest December 10 (December 10). The daily bag limit is 6 ducks, including no more than 5 mallards (no more than 2 of which may be females), 2 redheads, 3 wood ducks, 1 pintail, and 2 canvasbacks. The daily bag limit for scaup is 1, and the season for scaup may be split into 2 segments, with one segment consisting of 39 consecutive days and another segment consisting of 35 consecutive days. In Texas, the daily bag limit on mottled ducks is 1, except that no mottled ducks may be taken during the first 5 days of the season. In addition to the daily limits listed above, the States of Montana, North Dakota, South Dakota, and Wyoming, in lieu of selecting an experimental September teal season, may include an additional daily bag and possession limit of 2 and 6 blue-winged teal, respectively, during the first 16 days of the regular duck season in each respective duck hunting zone. These extra limits are in addition to the regular duck bag and possession limits.

Merganser Daily Bag Limits: The daily bag limit is 5 mergansers, only 2 of which may be hooded mergansers. In States that include mergansers in the duck daily bag limit, the daily limit may be the same as the duck bag limit, only two of which may be hooded mergansers.

Coot Daily Bag Limits: The daily bag limit is 15 coots.

Zones and Split Seasons: Colorado, Kansas (Low Plains portion), Montana, Nebraska, New Mexico, Oklahoma (Low Plains portion), South Dakota (Low Plains portion), Texas (Low Plains portion), and Wyoming may select hunting seasons by zones.

North Dakota may split their season into 3 segments. Montana, New Mexico, Oklahoma, and Texas may select seasons in each of 2 zones; and Colorado, Kansas, South Dakota, and Wyoming may select seasons in each of 3 zones; and all these States may split their season in each zone into 2 segments. Nebraska may select seasons in each of 4 zones.

b. Special Early Canada and Cackling Goose Seasons

Outside Dates and Seasons Lengths: In Kansas, Nebraska, Oklahoma, South Dakota, and Texas, 30 days between September 1-30; in Colorado, New Mexico, Montana, and Wyoming, 15 days between September 1-15; and in North Dakota, 22 days between September 1-22.

Daily Bag Limits: 5 geese in the aggregate, except in Kansas, Nebraska, and Oklahoma, where the daily bag limit may not exceed 8 geese in the aggregate, and in North Dakota and South Dakota, where the daily bag limit may not exceed 15 geese in the aggregate.

Shooting Hours: One-half hour before sunrise to sunset, except that during September 1-15 shooting hours may extend to one-half hour after sunset if all other waterfowl and crane seasons are closed in the specific applicable area.

c. Canada Goose, Cackling Goose, and Brant Seasons

Outside Dates: Saturday nearest September 24 (September 24)-the Sunday nearest February 15 (February 13).

Seasons and Daily Bag Limits: In Kansas, Nebraska, North Dakota, Oklahoma, South Dakota, and the Eastern Goose Zone of Texas, 107 days with a daily bag limit of 8 geese; and in Colorado, Montana, New Mexico, and Wyoming, 107 days with a daily bag limit of 5 geese; and in Texas (Western Goose Zone), 95 days with a daily bag limit of 5 geese.

Split Seasons: Seasons may be split into 3 segments. Three-segment seasons require Central Flyway Council and U.S. Fish and Wildlife Service approval, and a 3-year evaluation by each participating State.

d. White-Fronted Goose Seasons

Outside Dates: Saturday nearest September 24 (September 24)-the Sunday nearest February 15 (February 13).

Season Length and Daily Bag Limits: Except as subsequently provided, either 74 days with a daily bag limit of 3 geese, or 88 days with a daily bag limit of 2 geese, or 107 days with a daily bag limit of 1 goose. In Texas (Western Goose Zone), 95 days with a daily bag limit of 2 geese. Seasons may be split into 3 segments.

e. Light Goose Seasons

Outside Dates: Saturday nearest September 24 (September 24)-March 10.

Season Lengths: 107 days. Seasons may be split into 3 segments.

Daily Bag and Possession Limits: The daily bag limit is 50 with no possession limit.

Special Provisions: In the Rainwater Basin Light Goose Area (East and West) of Nebraska, temporal and spatial restrictions that are consistent with the late-winter snow goose hunting strategy cooperatively developed by the Central Flyway Council and the Service are required.

4. Pacific Flyway

a. Duck, Merganser, Coot, and Gallinule Seasons

Outside Dates: Saturday nearest September 24 (September 24)-January 31.

Season Lengths and Daily Bag Limits: 107 days. The daily bag limit is 7 ducks and mergansers in the aggregate, including no more than 2 female mallards, 1 pintail, 2 canvasbacks, 2 scaup, and 2 redheads. For scaup, the season length is 86 days, which may be split according to applicable zones and split duck hunting configurations approved for each State. The daily bag limit of coots and gallinules is 25 in the aggregate.

Zones and Split Seasons: Montana and New Mexico may split their seasons into 3 segments. Arizona, Colorado, Oregon, Utah, Washington, and Wyoming may select seasons in each of 2 zones; Nevada may select seasons in each of 3 zones; and California may select seasons in each of 5 zones; and all these States may split their season in each zone into 2 segments. Idaho may select seasons in each of 4 zones.

Special Provisions: The seasons, limits, and shooting hours should be the same between the Colorado River Zone of California and the South Zone of Arizona.

b. Goose Seasons

i. Special Early Canada and Cackling Goose Seasons

Outside Dates: September 1-20.

Season Lengths: 15 days.

Daily Bag Limits: 5 geese in the aggregate, except in Pacific County, Washington, where the daily bag limit is 15 geese in the aggregate.

ii. Canada Goose, Cackling Goose, and Brant Seasons

Outside Dates: Except as subsequently provided, September 24 (September 24) and January 31.

Season Lengths: Except as subsequently provided, 107 days.

Daily Bag Limits: Except as subsequently provided, in Arizona, Colorado, Idaho, Montana, Nevada, New Mexico, Utah, and Wyoming, the daily bag limit is 5 Canada and cackling geese and brant in the aggregate. In Oregon and Washington, the daily bag limit is 4 Canada and cackling geese in the aggregate. In California, the daily bag limit is 10 Canada and cackling geese in the aggregate.

Split Seasons: Seasons may be split into 3 segments. Three-segment seasons require Pacific Flyway Council and U.S. Fish and Wildlife Service approval and a 3-year evaluation by each participating State.

iii. Brant Seasons

Areas: California, Oregon, and Washington.

Outside Dates: September 24 (September 24) and January 31.

Season Lengths and Daily Bag Limits: Season lengths and daily bag limits will be based on the upcoming Winter Brant Survey results and the Pacific brant harvest strategy.

Zones: Washington and California may select seasons in each of 2 zones.

Special Provisions: In Oregon and California, the brant season must end no later than December 15.

iv. White-Fronted Goose Seasons

Outside Dates: Saturday nearest September 24 (September 24) and March 10.

Season Lengths: 107 days.

Daily Bag Limits: Except as subsequently provided, 10 geese.

Split Seasons: Seasons may be split into 3 segments. Three-segment seasons require Pacific Flyway Council and U.S. Fish and Wildlife Service approval and a 3-year evaluation by each participating State.

v. Light Goose Seasons

Outside Dates: Saturday nearest September 24 (September 24) and March 10.

Season Lengths: 107 days. Seasons may be split into 3 segments.

Daily Bag Limits: 20 geese, except in Washington where the daily bag limit for light geese is 10 on or before the last Sunday in January (January 29).

California

Balance of State Zone: A Canada and cackling goose season may be selected with outside dates between the Saturday nearest September 24 (September 24) and March 10, and may be split into 3 segments. In the Sacramento Valley Special Management Area, the season on white-fronted geese must end on or before December 28, and the daily bag limit is 3 white-fronted geese. In the North Coast Special Management Area, hunting days that occur after January 31 should be concurrent with Oregon's South Coast Zone.

Northeastern Zone: The white-fronted goose season may be split into 3 segments.

Oregon

Eastern Zone: For Lake County only, the daily white-fronted goose bag limit is 1.

Northwest Permit Zone: A Canada and cackling goose season may be selected with outside dates between the Saturday nearest September 24 (September 24) and March 10 with a daily bag limit of 3 geese in the aggregate. Canada and cackling goose and white-fronted goose seasons may be split into 3 segments. In the Tillamook County Management Area, the hunting season is closed on geese.

South Coast Zone: A Canada and cackling goose season may be selected with outside dates between the Saturday nearest September 24 (September 24) and March 10 with a daily bag limit of 6 geese in the aggregate. Canada and cackling goose and white-fronted goose seasons may be split into 3 segments. Hunting days that occur after January 31 should be concurrent with California's North Coast Special Management Area.

Utah

Wasatch Front Zone: A Canada and cackling goose and brant season may be selected with outside dates between the Saturday nearest September 24 (September 24) and February 15.

Washington

Areas 2 Inland and 2 Coastal (Southwest Permit Zone): A Canada and cackling goose season may be selected in each zone with outside dates between the Saturday nearest September 24 (September 24) and March 10 with a daily bag limit of 3 geese in the aggregate. Canada and cackling goose and white-fronted goose seasons may be split into 3 segments.

Area 4: Canada and cackling goose and white-fronted goose seasons may be split into 3 segments.

Permit Zones

In Oregon and Washington permit zones, the hunting season is closed on dusky Canada geese. A dusky Canada goose is any dark-breasted Canada goose (Munsell 10 YR color value 5 or less) with a bill length between 40 and 50 millimeters. Hunting of geese will only be by hunters possessing a State-issued permit authorizing them to do so. Shooting hours for geese may begin no earlier than sunrise. Regular Canada and cackling goose seasons in the permit zones of Oregon and Washington remain subject to the Memorandum of Understanding entered into with the Service regarding monitoring the impacts of take during the regular Canada and cackling goose season on the dusky Canada goose population.

5. Swan Seasons

Pacific Flyway

Areas: Idaho, Montana, Nevada, and Utah.

Outside Dates: Saturday nearest September 24 (September 24)-January 31.

Season Lengths: 107 days. Seasons may be split into 2 segments.

Permits: Hunting is by permit only. Permits will be issued by the State. The total number of permits issued may not exceed 50 in Idaho, 500 in Montana, 650 in Nevada, and 2,750 in Utah. Permits will authorize the take of no more than 1 swan per permit. Only 1 permit may be issued per hunter in Montana and Utah; 2 permits may be issued per hunter in Nevada.

Quotas: The swan season in the respective State must end upon attainment of the following reported harvest of trumpeter swans: 20 in Utah and 10 in Nevada. There is no quota in Montana.

Monitoring: Each State must evaluate hunter participation, species-specific swan harvest, and hunter compliance in providing either species-determinant parts (at least the intact head) or bill measurements (bill length from tip to posterior edge of the nares opening, and presence or absence of yellow lore spots on the bill in front of the eyes) of harvested swans for species identification. Each State should use appropriate measures to maximize hunter compliance with the State's program for swan harvest reporting. Each State must achieve a hunter compliance of at least 80 percent in providing species-determinant parts or bill measurements of harvested swans for species identification, or subsequent permits will be reduced by 10 percent in the respective State. Each State must provide to the Service by June 30 following the swan season a report detailing hunter participation, species-specific swan harvest, and hunter compliance in reporting harvest. In Idaho and Montana, all hunters that harvest a swan must complete and submit a reporting card (bill card) with the bill measurement and color information from the harvested swan within 72 hours of harvest for species determination. In Utah and Nevada, all hunters that harvest a swan must have the swan or species-determinant parts examined by a State or Federal biologist within 72 hours of harvest for species determination.

Other Provisions: In Utah, the season is subject to the terms of the Memorandum of Agreement entered into with the Service in January 2019 regarding harvest monitoring, season closure procedures, and education requirements to minimize take of trumpeter swans during the swan season.

Atlantic and Central Flyways

Areas: Delaware, North Carolina, and Virginia in the Atlantic Flyway and North Dakota, South Dakota east of the Missouri River, and part of Montana in the Central Flyway.

Outside Dates: October 1-January 31 in the Atlantic Flyway and the Saturday nearest October 1 (October 2)-January 31 in the Central Flyway.

Season Lengths: 90 days in the Atlantic Flyway and 107 days in the Central Flyway.

Permits: Hunting is by permit only. Permits will be issued by the States. No more than 5,600 permits may be issued in the Atlantic Flyway including 347 in Delaware, 4,721 in North Carolina, and 532 in Virginia. No more than 4,000 permits may be issued in the Central Flyway including 500 in Montana, 2,200 in North Dakota, and 1,300 in South Dakota. Permits will authorize the take of no more than 1 swan per permit. A second permit may be issued to hunters from unissued permits remaining after the first drawing. Unissued permits may be reallocated to States within a Flyway.

Monitoring: Each State must evaluate hunter participation, species-specific swan harvest, and hunter compliance in providing measurements of harvested swans for species identification. Each State should use appropriate measures to maximize hunter compliance with the State's program for swan harvest reporting. Each State must achieve a hunter compliance of at least 80 percent in providing species-determinant measurements of harvested swans for species identification. Each State must provide to the Service by June 30 following the swan season a report detailing hunter participation, species-specific swan harvest, and hunter compliance in reporting harvest.

Other Provisions: In lieu of a general swan hunting season, States may select a season only for tundra swans. States selecting a season only for tundra swans must obtain harvest and hunter participation data. The season in Delaware is experimental.

6. Sandhill Crane Seasons

Mississippi Flyway

Areas: Alabama, Kentucky, Minnesota, and Tennessee.

Outside Dates: September 1-February 28 in Minnesota, and September 1-January 31 in Alabama, Kentucky, and Tennessee.

Season Lengths: 37 days in the designated portion of Minnesota's Northwest Goose Zone, and 60 days in Alabama, Kentucky, and Tennessee.

Daily Bag and Possession Limits: The daily bag limit is 1 crane in Minnesota, 2 cranes in Kentucky, and 3 cranes in Alabama and Tennessee. In Alabama, Kentucky, and Tennessee, the seasonal bag limit is 3 cranes.

Permits: Hunting is by permit only. Permits will be issued by the State.

Other Provisions: The number of permits, open areas, season dates, protection plans for other species, and other provisions of seasons must be consistent with Council management plans and approved by the Mississippi Flyway Council. The season in Alabama is experimental.

Central Flyway

Areas: Colorado, Kansas, Montana, New Mexico, North Dakota, Oklahoma, South Dakota, Texas, and Wyoming.

Outside Dates: September 1-February 28.

Season Lengths: 37 days in Texas (Zone C), 58 days in Colorado, Kansas, Montana, North Dakota, South Dakota, and Wyoming, and 93 days in New Mexico, Oklahoma, and Texas.

Daily Bag Limits: 3 cranes, except 2 cranes in North Dakota (Area 2) and Texas (Zone C).

Permits: Each person participating in the regular sandhill crane season must have a valid Federal or State sandhill crane hunting permit.

Central and Pacific Flyways

Areas: Arizona, Colorado, Idaho, Montana, New Mexico, Utah, and Wyoming within the range of the Rocky Mountain Population (RMP) of sandhill cranes.

Outside Dates: September 1-January 31.

Season Lengths: 60 days. The season may be split into 3 segments.

Daily Bag and Possession limits: The daily bag limit is 3 cranes, and the possession limit is 9 cranes per season.

Permits: Hunting is by permit only. Permits will be issued by the State.

Other Provisions: Numbers of permits, open areas, season dates, protection plans for other species, and other provisions of seasons must be consistent with Councils' management plan and approved by the Central and Pacific Flyway Councils, with the following exceptions:

A. In Utah, 100 percent of the harvest will be assigned to the RMP crane quota;

B. In Arizona, monitoring the racial composition of the harvest must be conducted at 3-year intervals unless 100 percent of the harvest will be assigned to the RMP crane quota;

C. In Idaho, 100 percent of the harvest will be assigned to the RMP crane quota; and

D. In the Estancia Valley hunt area of New Mexico, the level and racial composition of the harvest must be monitored; greater sandhill cranes in the harvest will be assigned to the RMP crane quota.

7. Gallinule Seasons

Atlantic, Mississippi, and Central Flyways

Outside Dates: September 1-January 31.

Season Lengths: 70 days.

Daily Bag Limits: 15 gallinules.

Zones and Split Seasons: Seasons may be selected by zones established for duck hunting. The season in each zone may be split into 2 segments.

Pacific Flyway

States in the Pacific Flyway may select their hunting seasons between the outside dates for the season on ducks, mergansers, and coots; therefore, Pacific Flyway frameworks for gallinules are included with the duck, merganser, and coot frameworks.

8. Rail Seasons

Areas: Atlantic, Mississippi, and Central Flyways and the Pacific Flyway Portions of Colorado, Montana, New Mexico, and Wyoming.

Outside Dates: September 1-January 31.

Season Lengths: 70 days. Seasons may be split into 2 segments.

Daily Bag Limits:

Clapper and King Rails: In Connecticut, Delaware, Maryland, New Jersey, and Rhode Island, 10 rails in the aggregate. In Alabama, Florida, Georgia, Louisiana, Mississippi, North Carolina, South Carolina, Texas, and Virginia, 15 rails in the aggregate.

Sora and Virginia Rails: 25 rails in the aggregate.

9. Snipe Seasons

Outside Dates: September 1-February 28, except in Connecticut, Delaware, Maine, Maryland, Massachusetts, New Hampshire, New Jersey, New York, Rhode Island, Vermont, and Virginia, where the season must end no later than January 31.

Season Lengths: 107 days.

Daily Bag limits: 8 snipe.

Zones and Split Seasons: Seasons may be selected by zones established for duck seasons. The season in each zone may be split into 2 segments.

10. American Woodcock Seasons

Areas: Eastern and Central Management Regions.

Outside Dates: September 13-January 31.

Season Lengths: Except as subsequently provided, 45 days.

Daily Bag Limits: 3 woodcock.

Zones and Split Seasons: Seasons may be split into 2 segments. New Jersey may select seasons in each of 2 zones. The season in each zone may not exceed 36 days.

11. Band-Tailed Pigeon Seasons

California, Oregon, Washington, and Nevada

Outside Dates: September 15-January 1.

Seasons Lengths: 9 days.

Daily Bag Limits: 2 pigeons.

Zones: California may select seasons in each of 2 zones. The season in each zone may not exceed 9 days. The season in the North Zone must close by October 3.

Arizona, Colorado, New Mexico, and Utah

Outside Dates: September 1-November 30.

Season Lengths: 14 days.

Daily Bag Limits: 2 pigeons.

Zones: New Mexico may select seasons in each of 2 zones. The season in each zone may not exceed 14 days. The season in the South Zone may not open until October 1.

12. Dove Seasons

Eastern Management Unit

Outside Dates: September 1 and January 31.

Season Lengths: 90 days.

Daily Bag Limits: 15 mourning and white-winged doves in the aggregate.

Zones and Split Seasons: Seasons may be split into 3 segments; Alabama, Louisiana, and Mississippi may select seasons in each of 2 zones and may split their season in each zone into 3 segments.

Central Management Unit

Outside Dates: September 1 and January 15.

Season Lengths: 90 days.

All States Except Texas

Daily Bag Limits: 15 mourning and white-winged doves in the aggregate.

Zones and Split Seasons: Seasons may be split into 3 segments; New Mexico may select seasons in each of 2 zones and may split their season in each zone into 3 segments.

Texas

Daily Bag Limits: 15 mourning, white-winged, and white-tipped doves in the aggregate, of which no more than 2 may be white-tipped doves.

Zones and Split Seasons: Texas may select hunting seasons for each of 3 zones subject to the following conditions:

A. The season may be split into 2 segments, except in that portion of Texas in which the special white-winged dove season is allowed, where a limited take of mourning and white-tipped doves may also occur during that special season (see Special White-winged Dove Area in Texas, below).

B. A season may be selected for the North and Central Zones between September 1 and January 25; and for the South Zone between September 14 and January 25.

Special White-Winged Dove Season in Texas

In addition, Texas may select a hunting season of not more than 6 days, consisting of two 3-consecutive-day periods, for the Special White-winged Dove Area between September 1 and September 19. The daily bag limit may not exceed 15 white-winged, mourning, and white-tipped doves in the aggregate, of which no more than 2 may be mourning doves and no more than 2 may be white-tipped doves. Shooting hours are from noon to sunset.

Western Management Unit

Outside Dates: September 1 and January 15.

Idaho, Nevada, Oregon, Utah, and Washington

Season Lengths: 60 days.

Daily Bag Limits: 15 mourning and white-winged doves in the aggregate.

Zones and Split Seasons: Idaho, Nevada, Utah, and Washington may split their seasons into 2 segments. Oregon may select hunting seasons in each of 2 zones and may split their season in each zone into 2 segments.

Arizona and California

Season Lengths: 60 days, which may be split between 2 segments, September 1-15 and November 1-January 15.

Daily Bag Limits: In Arizona, during the first segment of the season, the daily bag limit is 15 mourning and white-winged doves in the aggregate, of which no more than 10 may be white-winged doves. During the remainder of the season, the daily bag limit is 15 mourning doves. In California, the daily bag limit is 15 mourning and white-winged doves in the aggregate, of which no more than 10 may be white-winged doves.

13. Alaska

a. Duck, Goose, Sandhill Crane, and Snipe Seasons

Outside Dates: Except as subsequently provided, September 1-January 26.

Season Lengths: Except as subsequently provided, 107 days for ducks, geese (except brant), sandhill cranes, and snipe. The season length for brant will be determined based on the upcoming brant winter survey results and the Pacific brant harvest strategy.

Zones and Split Seasons: A season may be established in each of 5 zones. The season in the Southeast Zone may be split into 2 segments.

Closed Seasons: The hunting season is closed on the spectacled eider and Steller's eider.

Daily Bag and Possession Limits and Special Conditions:

Ducks: The basic daily bag limit is 7 ducks. The basic daily bag limit in the North Zone is 10 ducks, and in the Gulf Coast Zone is 8 ducks. The basic daily bag limits may include 2 canvasbacks and may not include sea ducks.

In addition to the basic daily bag limits, the sea duck daily bag limit is 10, including 6 each of either harlequin or long-tailed ducks. Sea ducks include scoters, common and king eiders, harlequin ducks, long-tailed ducks, and common, hooded, and red-breasted mergansers.

Light Geese: The daily bag limit is 6 geese.

Canada and Cackling Geese: The daily bag limit is 4 geese in the aggregate with the following exceptions, and subject to the following conditions:

A. In Units 5 and 6, outside dates are September 28-December 16.

B. On Middleton Island in Unit 6, all hunting is by permit only. Each hunter is required to complete a mandatory goose identification class prior to being issued a permit. Hunters must check in and check out when hunting. The daily bag and possession limits are 1 Canada or cackling goose. The season will close if incidental harvest includes 5 dusky Canada geese. A dusky Canada goose is any dark-breasted Canada goose (Munsell 10 YR color value 5 or less) with a bill length between 40 and 50 millimeters.

C. In Unit 10, the daily bag limit is 6 Canada and cackling geese in the aggregate.

White-fronted Geese: The daily bag limit is 4 geese with the following exceptions:

A. In Units 9, 10, and 17, the daily bag limit is 6 geese.

B. In Unit 18, the daily bag limit is 10 geese.

Emperor Geese: The emperor geese season is subject to the following conditions:

A. All hunting is by permit only.

B. One goose may be harvested per hunter per season.

C. Total harvest may not exceed 500 geese.

D. In State Game Management Unit 8, the Kodiak Island Road Area is closed to hunting. The Kodiak Island Road Area consists of all lands and water (including exposed tidelands) east of a line extending from Crag Point in the north to the west end of Saltery Cove in the south and all lands and water south of a line extending from Termination Point along the north side of Cascade Lake extending to Anton Larsen Bay. Marine waters adjacent to the closed area are closed to harvest within 500 feet from the water's edge. The offshore islands are open to harvest, for example: Woody, Long, Gull, and Puffin islands.

Brant: The daily bag limit will be determined based on the upcoming brant winter survey results and the Pacific brant harvest strategy.

Snipe: The daily bag limit is 8 snipe.

Sandhill Cranes: The daily bag limit is 2 cranes in the Southeast, Gulf Coast, Kodiak, and Aleutian Zones, and Unit 17 in the North Zone. In the remainder of the North Zone (outside Unit 17), the daily bag limit is 3 cranes.

b. Tundra Swan Seasons

Outside Dates: September 1-October 31.

Season Lengths: 31 days.

Daily Bag and Possession Limits and Special Conditions: All hunting is by permit only according to the following conditions.

A. In Unit 17, 200 permits may be issued; 3 tundra swans may be authorized per permit, and 1 permit may be issued per hunter per season.

B. In Unit 18, 500 permits may be issued; 3 tundra swans may be authorized per permit, and 1 permit may be issued per hunter per season.

C. In Unit 22, 300 permits may be issued; 3 tundra swans may be authorized per permit, and 1 permit may be issued per hunter per season.

D. In Unit 23, 300 permits may be issued; 3 tundra swans may be authorized per permit, and 1 permit may be issued per hunter per season.

14. Hawaii

a. Mourning Dove Season

Outside Dates: October 1-January 31.

Season Lengths and Daily Bag Limits: 65 days with a daily bag limit of 15 doves or 75 days with a daily bag of 12 doves.

Note: Mourning doves may be taken in Hawaii in accordance with shooting hours and other regulations set by the State of Hawaii, and subject to the applicable provisions of 50 CFR part 20.

15. Puerto Rico

a. Dove and Pigeon Seasons

Outside Dates: September 1-January 15.

Season Lengths: 60 days.

Daily Bag Limits: 30 Zenaida, mourning, and white-winged doves in the aggregate, of which 10 may be Zenaida doves and 3 may be mourning doves, and 5 scaly-naped pigeons.

Closed Seasons: There is no open season on the white-crowned pigeon and the plain pigeon, which are protected by the Commonwealth of Puerto Rico.

Closed Areas: There is no open season on doves or pigeons in the following areas: Municipality of Culebra, Desecheo Island, Mona Island, El Verde Closure Area, and Cidra Municipality and adjacent areas.

b. Duck, Coot, Gallinule, and Snipe Seasons

Outside Dates: October 1-January 31.

Season Lengths: 55 days. The season may be split into 2 segments.

Daily Bag Limits: 6 ducks, 6 gallinules, and 8 snipe.

Closed Seasons: There is no open season on the ruddy duck, white-cheeked pintail, West Indian whistling duck, fulvous whistling duck, and masked duck, which are protected by the Commonwealth of Puerto Rico. There is no open season on the purple gallinule, American coot, and Caribbean coot.

Closed Areas: There is no open season on ducks, gallinules, and snipe in the Municipality of Culebra and on Desecheo Island.

16. Virgin Islands

a. Dove and Pigeon Seasons

Outside Dates: September 1-January 15.

Season Lengths: 60 days.

Daily Bag and Possession Limits: 10 Zenaida doves.

Closed Seasons: There is no open season for ground-doves, quail-doves, and pigeons.

Closed Areas: There is no open season for migratory game birds on Ruth Cay (just south of St. Croix).

Local Names for Certain Birds: Zenaida dove, also known as mountain dove; bridled quail-dove, also known as Barbary dove or partridge; common ground-dove, also known as stone dove, tobacco dove, rola, or tortolita; scaly-naped pigeon, also known as red-necked or scaled pigeon.

b. Duck Seasons

Outside Dates: December 1-January 31.

Season Lengths: 55 days.

Daily Bag Limits: 6 ducks.

Closed Seasons: There is no open season on the ruddy duck, white-cheeked pintail, West Indian whistling-duck, fulvous whistling-duck, and masked duck.

17. Special Falconry Regulations

In accordance with 50 CFR 21.29, falconry is a permitted means of taking migratory game birds in any State except for Hawaii. States may select an extended season for taking migratory game birds in accordance with the following:

Outside Dates: September 1-March 10.

Season Lengths: For all hunting methods combined, the combined length of the extended season, regular season, and any special or experimental seasons must not exceed 107 days for any species or group of species in a geographical area. Each extended season may be split into 3 segments.

Daily Bag Limits: Falconry daily bag limits for all permitted migratory game birds must not exceed 3 birds in the aggregate, during extended falconry seasons, any special or experimental seasons, and regular hunting seasons in each State, including those that do not select an extended falconry season. Regular season bag limits do not apply to falconry. The falconry bag limit is not in addition to shooting limits.

Note: General hunting regulations, including seasons and hunting hours, apply to falconry.

c. Area, Unit, and Zone Descriptions

Ducks (Including Mergansers) and Coots

Atlantic Flyway

Connecticut

North Zone: That portion of the State north of I-95.

South Zone: Remainder of the State.

Maine

North Zone: That portion north of the line extending east along Maine State Highway 110 from the New Hampshire-Maine State line to the intersection of Maine State Highway 11 in Newfield; then north and east along Route 11 to the intersection of U.S. Route 202 in Auburn; then north and east on Route 202 to the intersection of I-95 in Augusta; then north and east along I-95 to Route 15 in Bangor; then east along Route 15 to Route 9; then east along Route 9 to Stony Brook in Baileyville; then east along Stony Brook to the U.S. border.

Coastal Zone: That portion south of a line extending east from the Maine-New Brunswick border in Calais at the Route 1 Bridge; then south along Route 1 to the Maine-New Hampshire border in Kittery.

South Zone: Remainder of the State.

Maryland

Western Zone: Allegany, Carroll, Garrett, Frederick and Washington Counties; and those portions of Baltimore, Howard, Prince George's, and Montgomery Counties west of a line beginning at I-83 at the Pennsylvania State line, following I-83 south to the intersection of I-83 and I-695 (Outer Loop), south following I-695 (Outer Loop) to its intersection with I-95, south following I-95 to its intersection with I-495 (Outer Loop), and following I-495 (Outer Loop) to the Virginia shore of the Potomac River.

Eastern Zone: That portion of the State not included in the Western Zone.

Special Teal Season Area: Calvert, Caroline, Cecil, Dorchester, Harford, Kent, Queen Anne's, St. Mary's, Somerset, Talbot, Wicomico, and Worcester Counties; that part of Anne Arundel County east of Interstate 895, Interstate 97, and Route 3; that part of Prince George's County east of Route 3 and Route 301; and that part of Charles County east of Route 301 to the Virginia State Line.

Massachusetts

Western Zone: That portion of the State west of a line extending south from the Vermont State line on I-91 to MA 9, west on MA 9 to MA 10, south on MA 10 to U.S. 202, south on U.S. 202 to the Connecticut State line.

Central Zone: That portion of the State east of the Berkshire Zone and west of a line extending south from the New Hampshire State line on I-95 to U.S. 1, south on U.S. 1 to I-93, south on I-93 to MA 3, south on MA 3 to U.S. 6, west on U.S. 6 to MA 28, west on MA 28 to I-195, west to the Rhode Island State line; except the waters, and the lands 150 yards inland from the high-water mark, of the Assonet River upstream to the MA 24 bridge, and the Taunton River upstream to the Center Street-Elm Street bridge shall be in the Coastal Zone.

Coastal Zone: That portion of Massachusetts east and south of the Central Zone.

New Hampshire

Northern Zone: That portion of the State east and north of the Inland Zone beginning at the Jct. of Route 10 and Route 25-A in Orford, east on Route 25-A to Route 25 in Wentworth, southeast on Route 25 to Exit 26 of Route I-93 in Plymouth, south on Route I-93 to Route 3 at Exit 24 of Route I-93 in Ashland, northeast on Route 3 to Route 113 in Holderness, north on Route 113 to Route 113-A in Sandwich, north on Route 113-A to Route 113 in Tamworth, east on Route 113 to Route 16 in Chocorua, north on Route 16 to Route 302 in Conway, east on Route 302 to the Maine-New Hampshire border.

Inland Zone: That portion of the State south and west of the Northern Zone, west of the Coastal Zone, and includes the area of Vermont and New Hampshire as described for hunting reciprocity. A person holding a New Hampshire hunting license that allows the taking of migratory waterfowl or a person holding a Vermont resident hunting license that allows the taking of migratory waterfowl may take migratory waterfowl and coots from the following designated area of the Inland Zone: The State of Vermont east of Route I-91 at the Massachusetts border, north on Route I-91 to Route 2, north on Route 2 to Route 102, north on Route 102 to Route 253, and north on Route 253 to the border with Canada and the area of New Hampshire west of Route 63 at the Massachusetts border, north on Route 63 to Route 12, north on Route 12 to Route 12-A, north on Route 12-A to Route 10, north on Route 10 to Route 135, north on Route 135 to Route 3, north on Route 3 to the intersection with the Connecticut River.

Coastal Zone: That portion of the State east of a line beginning at the Maine-New Hampshire border in Rollinsford, then extending to Route 4 west to the city of Dover, south to the intersection of Route 108, south along Route 108 through Madbury, Durham, and Newmarket to the junction of Route 85 in Newfields, south to Route 101 in Exeter, east to Interstate 95 (New Hampshire Turnpike) in Hampton, and south to the Massachusetts border.

New Jersey

Coastal Zone: That portion of the State seaward of a line beginning at the New York State line in Raritan Bay and extending west along the New York State line to NJ 440 at Perth Amboy; west on NJ 440 to the Garden State Parkway; south on the Garden State Parkway to NJ 109; south on NJ 109 to Cape May County Route 633 (Lafayette Street); south on Lafayette Street to Jackson Street; south on Jackson Street to the shoreline at Cape May; west along the shoreline of Cape May beach to COLREGS Demarcation Line 80.503 at Cape May Point; south along COLREGS Demarcation Line 80.503 to the Delaware State line in Delaware Bay.

North Zone: That portion of the State west of the Coastal Zone and north of a line extending west from the Garden State Parkway on NJ 70 to the New Jersey Turnpike, north on the turnpike to U.S. 206, north on U.S. 206 to U.S. 1 at Trenton, west on U.S. 1 to the Pennsylvania State line in the Delaware River.

South Zone: That portion of the State not within the North Zone or the Coastal Zone.

New York

Lake Champlain Zone: That area east and north of a continuous line extending along U.S. 11 from the New York-Canada International boundary south to NY 9B, south along NY 9B to U.S. 9, south along U.S. 9 to NY 22 south of Keesville; south along NY 22 to the west shore of South Bay, along and around the shoreline of South Bay to NY 22 on the east shore of South Bay; southeast along NY 22 to U.S. 4, northeast along U.S. 4 to the Vermont State line.

Long Island Zone: That area consisting of Nassau County, Suffolk County, that area of Westchester County southeast of I-95, and their tidal waters.

Western Zone: That area west of a line extending from Lake Ontario east along the north shore of the Salmon River to I-81, and south along I-81 to the Pennsylvania State line.

Northeastern Zone: That area north of a continuous line extending from Lake Ontario east along the north shore of the Salmon River to I-81, south along I-81 to NY 31, east along NY 31 to NY 13, north along NY 13 to NY 49, east along NY 49 to NY 365, east along NY 365 to NY 28, east along NY 28 to NY 29, east along NY 29 to NY 22, north along NY 22 to Washington County Route 153, east along CR 153 to the New York-Vermont boundary, exclusive of the Lake Champlain Zone.

Southeastern Zone: The remaining portion of New York.

North Carolina

Coastal Zone: All counties and portions of counties east of I-95.

Inland Zone: All counties and portions of counties west of I-95.

Pennsylvania

Lake Erie Zone: The Lake Erie waters of Pennsylvania and a shoreline margin along Lake Erie from New York on the east to Ohio on the west extending 150 yards inland but including all of Presque Isle Peninsula.

Northwest Zone: The area bounded on the north by the Lake Erie Zone and including all of Erie and Crawford Counties and those portions of Mercer and Venango Counties north of I-80.

North Zone: That portion of the State east of the Northwest Zone and north of a line extending east on I-80 to U.S. 220, Route 220 to I-180, I-180 to I-80, and I-80 to the Delaware River.

South Zone: The remaining portion of Pennsylvania.

Vermont

Lake Champlain Zone: The U.S. portion of Lake Champlain and that area north and west of the line extending from the New York border along U.S. 4 to VT 22A at Fair Haven; VT 22A to U.S. 7 at Vergennes; U.S. 7 to VT 78 at Swanton; VT 78 to VT 36; VT 36 to Maquam Bay on Lake Champlain; along and around the shoreline of Maquam Bay and Hog Island to VT 78 at the West Swanton Bridge; VT 78 to VT 2 in Alburg; VT 2 to the Richelieu River in Alburg; along the east shore of the Richelieu River to the Canadian border.

Interior Zone: That portion of Vermont east of the Lake Champlain Zone and west of a line extending from the Massachusetts border at Interstate 91; north along Interstate 91 to U.S. 2; east along U.S. 2 to VT 102; north along VT 102 to VT 253; north along VT 253 to the Canadian border.

Connecticut River Zone: The remaining portion of Vermont east of the Interior Zone.

Virginia

Western Zone: All counties and portions of counties west of I-95.

Eastern Zone: All counties and portions of counties east of I-95.

Mississippi Flyway

Illinois

North Zone: That portion of the State north of a line extending west from the Indiana border along Peotone-Beecher Road to Illinois Route 50, south along Illinois Route 50 to Wilmington-Peotone Road, west along Wilmington-Peotone Road to Illinois Route 53, north along Illinois Route 53 to New River Road, northwest along New River Road to Interstate Highway 55, south along I-55 to Pine Bluff-Lorenzo Road, west along Pine Bluff-Lorenzo Road to Illinois Route 47, north along Illinois Route 47 to I-80, west along I-80 to I-39, south along I-39 to Illinois Route 18, west along Illinois Route 18 to Illinois Route 29, south along Illinois Route 29 to Illinois Route 17, west along Illinois Route 17 to the Mississippi River, and due south across the Mississippi River to the Iowa border.

Central Zone: That portion of the State south of the North Duck Zone line to a line extending west from the Indiana border along I-70 to Illinois Route 4, south along Illinois Route 4 to Illinois Route 161, west along Illinois Route 161 to Illinois Route 158, south and west along Illinois Route 158 to Illinois Route 159, south along Illinois Route 159 to Illinois Route 3, south along Illinois Route 3 to St. Leo's Road, south along St. Leo's Road to Modoc Road, west along Modoc Road to Modoc Ferry Road, southwest along Modoc Ferry Road to Levee Road, southeast along Levee Road to County Route 12 (Modoc Ferry entrance Road), south along County Route 12 to the Modoc Ferry route and southwest on the Modoc Ferry route across the Mississippi River to the Missouri border.

South Zone: That portion of the State south and east of a line extending west from the Indiana border along Interstate 70, south along U.S. Highway 45, to Illinois Route 13, west along Illinois Route 13 to Greenbriar Road, north on Greenbriar Road to Sycamore Road, west on Sycamore Road to N Reed Station Road, south on N Reed Station Road to Illinois Route 13, west along Illinois Route 13 to Illinois Route 127, south along Illinois Route 127 to State Forest Road (1025 N), west along State Forest Road to Illinois Route 3, north along Illinois Route 3 to the south bank of the Big Muddy River, west along the south bank of the Big Muddy River to the Mississippi River, west across the Mississippi River to the Missouri border.

South Central Zone: The remainder of the State between the south border of the Central Zone and the North border of the South Zone.

Indiana

North Zone: That part of Indiana north of a line extending east from the Illinois border along State Road 18 to U.S. 31; north along U.S. 31 to U.S. 24; east along U.S. 24 to Huntington; southeast along U.S. 224; south along State Road 5; and east along State Road 124 to the Ohio border.

Central Zone: That part of Indiana south of the North Zone boundary and north of the South Zone boundary.

South Zone: That part of Indiana south of a line extending east from the Illinois border along I-70; east along National Ave.; east along U.S. 150; south along U.S. 41; east along State Road 58; south along State Road 37 to Bedford; and east along U.S. 50 to the Ohio border.

Iowa

North Zone: That portion of Iowa north of a line beginning on the South Dakota Iowa border at Interstate 29, southeast along Interstate 29 to State Highway 20 to the Iowa-Illinois border. The south duck hunting zone is that part of Iowa west of Interstate 29 and south of State Highway 92 east to the Iowa-Illinois border. The central duck hunting zone is the remainder of the state.

Central Zone: The remainder of Iowa not included in the North and South zones.

South Zone: The south duck hunting zone is that part of Iowa west of Interstate 29 and south of State Highway 92 east to the Iowa-Illinois border.

Kentucky

West Zone: All counties west of and including Butler, Daviess, Ohio, Simpson, and Warren Counties.

East Zone: The remainder of Kentucky.

Louisiana

East Zone: That area of the State beginning at the Arkansas border, then south on U.S. Hwy 79 to State Hwy 9, then south on State Hwy 9 to State Hwy 147, then south on State Hwy 147 to U.S. Hwy 167, then south and east on U.S. Hwy 167 to U.S. Hwy 90, then south on U.S. Hwy 90 to the Mississippi State line.

West Zone: Remainder of the State.

Michigan

North Zone: The Upper Peninsula.

Middle Zone: That portion of the Lower Peninsula north of a line beginning at the Michigan-Wisconsin boundary line in Lake Michigan, directly due west of the mouth of Stoney Creek in section 31, T14N R18W, Oceana County, then proceed easterly and southerly along the centerline of Stoney Creek to its intersection with Scenic Drive, southerly on Scenic Drive to Stoney Lake Road in section 5, T13N R18W, Oceana County, easterly on Stoney Lake Road then both west and east Garfield Roads (name change only; not an intersection) then crossing highway U.S.-31 to State Highway M-20 (north of the town of New Era; also locally named Hayes Road) in section 33, T14N R17W, Oceana County, easterly on M-20 through Oceana, Newaygo, Mecosta, Isabella, and Midland Counties to highway U.S.-10 business route in the city of Midland, easterly on U.S.-10 Business Route (BR) to highway U.S.-10 at the Bay County line, easterly on U.S.-10 then crossing U.S.-75 to State Highway M-25 (west of the town of Bay City), easterly along M-25 into Tuscola County then northeasterly and easterly on M-25 through Tuscola County into Huron County, turning southeasterly on M-25 (near the town of Huron City; also locally named North Shore Road) to the centerline of Willow Creek in section 4, T18N R14E, Huron County, then northerly along the centerline of Willow Creek to the mouth of Willow Creek into Lake Huron, then directly due east along a line from the mouth of Willow Creek heading east into Lake Huron to a point due east and on the Michigan/U.S.-Canadian border.

South Zone: The remainder of Michigan.

Minnesota

North Duck Zone: That portion of the State north of a line extending east from the North Dakota State line along State Highway 210 to State Highway 23 and east to State Highway 39 and east to the Wisconsin State line at the Oliver Bridge.

South Duck Zone: The portion of the State south of a line extending east from the South Dakota State line along U.S. Highway 212 to Interstate 494 and east to Interstate 94 and east to the Wisconsin State line.

Central Duck Zone: The remainder of the State.

Missouri

North Zone: That portion of Missouri north of a line running west from the Illinois border at I-70; west on I-70 to Hwy 65; north on Hwy 65 to Hwy 41, north on Hwy 41 to Hwy 24; west on Hwy 24 to MO Hwy 10, west on Hwy 10 to Hwy 69, north on Hwy 69 to MO Hwy 116, west on MO Hwy 116 to Hwy 59, south on Hwy 59 to the Kansas border.

Middle Zone: The remainder of Missouri not included in other zones.

South Zone: That portion of Missouri south of a line running west from the Illinois border on MO Hwy 74 to MO Hwy 25; south on MO Hwy 25 to U.S. Hwy 62; west on U.S. Hwy 62 to MO Hwy 53; north on MO Hwy 53 to MO Hwy 51; north on MO Hwy 51 to U.S. Hwy 60; west on U.S. Hwy 60 to MO Hwy 21; north on MO Hwy 21 to MO Hwy 72; west on MO Hwy 72 to MO Hwy 32; west on MO Hwy 32 to U.S. Hwy 65; north on U.S. Hwy 65 to U.S. Hwy 54; west on U.S. Hwy 54 to the Kansas border.

Ohio

Lake Erie Marsh Zone: Includes all land and water within the boundaries of the area bordered by a line beginning at the intersection of Interstate 75 at the Ohio-Michigan State line and continuing south to Interstate 280, then south on I-280 to the Ohio Turnpike (I-80/I-90), then east on the Ohio Turnpike to the Erie-Lorain County line, then north to Lake Erie, then following the Lake Erie shoreline at a distance of 200 yards offshore, then following the shoreline west toward and around the northern tip of Cedar Point Amusement Park, then continuing from the westernmost point of Cedar Point toward the southernmost tip of the sand bar at the mouth of Sandusky Bay and out into Lake Erie at a distance of 200 yards offshore continuing parallel to the Lake Erie shoreline north and west toward the northernmost tip of Cedar Point National Wildlife Refuge, then following a direct line toward the southernmost tip of Wood Tick Peninsula in Michigan to a point that intersects the Ohio-Michigan State line, then following the State line back to the point of the beginning.

North Zone: That portion of the State, excluding the Lake Erie Marsh Zone, north of a line extending east from the Indiana State line along U.S. Highway (U.S.) 33 to State Route (SR) 127, then south along SR 127 to SR 703, then south along SR 703 and including all lands within the Mercer Wildlife Area to SR 219, then east along SR 219 to SR 364, then north along SR 364 and including all lands within the St. Mary's Fish Hatchery to SR 703, then east along SR 703 to SR 66, then north along SR 66 to U.S. 33, then east along U.S. 33 to SR 385, then east along SR 385 to SR 117, then south along SR 117 to SR 273, then east along SR 273 to SR 31, then south along SR 31 to SR 739, then east along SR 739 to SR 4, then north along SR 4 to SR 95, then east along SR 95 to SR 13, then southeast along SR 13 to SR 3, then northeast along SR 3 to SR 60, then north along SR 60 to U.S. 30, then east along U.S. 30 to SR 3, then south along SR 3 to SR 226, then south along SR 226 to SR 514, then southwest along SR 514 to SR 754, then south along SR 754 to SR 39/60, then east along SR 39/60 to SR 241, then north along SR 241 to U.S. 30, then east along U.S. 30 to SR 39, then east along SR 39 to the Pennsylvania State line.

South Zone: The remainder of Ohio not included in the Lake Erie Marsh Zone or the North Zone.

Tennessee

Reelfoot Zone: All or portions of Lake and Obion Counties.

Remainder of State: That portion of Tennessee outside of the Reelfoot Zone.

Wisconsin

North Zone: That portion of the State north of a line extending east from the Minnesota State line along U.S. Highway 10 to U.S. Highway 41, then north on U.S. Highway 41 to the Michigan State line.

Open Water Zone: That portion of the State extending 500 feet or greater from the Lake Michigan shoreline bounded by the Michigan State line and the Illinois State line.

South Zone: The remainder of the State.

Central Flyway

Colorado (Central Flyway Portion)

Special Teal Season Area: Lake and Chaffee Counties and that portion of the State east of Interstate Highway 25.

Northeast Zone: All areas east of Interstate 25 and north of Interstate 70.

Southeast Zone: All areas east of Interstate 25 and south of Interstate 70, and all of El Paso, Pueblo, Huerfano, and Las Animas Counties.

Mountain/Foothills Zone: All areas west of Interstate 25 and east of the Continental Divide, except El Paso, Pueblo, Huerfano, and Las Animas Counties.

Kansas

High Plains: That portion of the State west of U.S.-283.

Low Plains Early Zone: That part of Kansas bounded by a line from the Federal Hwy U.S.-283 and State Hwy 96 junction, then east on State Hwy 96 to its junction with Federal Hwy U.S.-183, then north on Federal Hwy U.S.-183 to its junction with Federal Hwy U.S.-24, then east on Federal Hwy U.S.-24 to its junction with Federal Hwy U.S.-281, then north on Federal Hwy U.S.-281 to its junction with Federal Hwy U.S.-36, then east on Federal Hwy U.S.-36 to its junction with State Hwy K-199, then south on State Hwy K-199 to its junction with Republic County 30th Road, then south on Republic County 30th Road to its junction with State Hwy K-148, then east on State Hwy K-148 to its junction with Republic County 50th Road, then south on Republic County 50th Road to its junction with Cloud County 40th Road, then south on Cloud County 40th Road to its junction with State Hwy K-9, then west on State Hwy K-9 to its junction with Federal Hwy U.S.-24, then west on Federal Hwy U.S.-24 to its junction with Federal Hwy U.S.-181, then south on Federal Hwy U.S.-181 to its junction with State Hwy K-18, then west on State Hwy K-18 to its junction with Federal Hwy U.S.-281, then south on Federal Hwy U.S.-281 to its junction with State Hwy K-4, then east on State Hwy K-4 to its junction with interstate Hwy I-135, then south on interstate Hwy I-135 to its junction with State Hwy K-61, then southwest on State Hwy K-61 to its junction with McPherson County 14th Avenue, then south on McPherson County 14th Avenue to its junction with McPherson County Arapaho Road, then west on McPherson County Arapaho Road to its junction with State Hwy K-61, then southwest on State Hwy K-61 to its junction with State Hwy K-96, then northwest on State Hwy K-96 to its junction with Federal Hwy U.S.-56, then southwest on Federal Hwy U.S.-56 to its junction with State Hwy K-19, then east on State Hwy K-19 to its junction with Federal Hwy U.S.-281, then south on Federal Hwy U.S.-281 to its junction with Federal Hwy U.S.-54, then west on Federal Hwy U.S.-54 to its junction with Federal Hwy U.S.-183, then north on Federal Hwy U.S.-183 to its junction with Federal Hwy U.S.-56, then southwest on Federal Hwy U.S.-56 to its junction with North Main Street in Spearville, then south on North Main Street to Davis Street, then east on Davis Street to Ford County Road 126 (South Stafford Street), then south on Ford County Road 126 to Garnett Road, then east on Garnett Road to Ford County Road 126, then south on Ford County Road 126 to Ford Spearville Road, then west on Ford Spearville Road to its junction with Federal Hwy U.S.-400, then northwest on Federal Hwy U.S.-400 to its junction with Federal Hwy U.S.-283, and then north on Federal Hwy U.S.-283 to its junction with Federal Hwy U.S.-96.

Low Plains Late Zone: That part of Kansas bounded by a line from the Federal Hwy U.S.-283 and State Hwy 96 junction, then north on Federal Hwy U.S.-283 to the Kansas-Nebraska State line, then east along the Kansas-Nebraska State line to its junction with the Kansas-Missouri State line, then southeast along the Kansas-Missouri State line to its junction with State Hwy K-68, then west on State Hwy K-68 to its junction with interstate Hwy I-35, then southwest on interstate Hwy I-35 to its junction with Butler County NE 150th Street, then west on Butler County NE 150th Street to its junction with Federal Hwy U.S.-77, then south on Federal Hwy U.S.-77 to its junction with the Kansas-Oklahoma State line, then west along the Kansas-Oklahoma State line to its junction with Federal Hwy U.S.-283, then north on Federal Hwy U.S.-283 to its junction with Federal Hwy U.S.-400, then east on Federal Hwy U.S.-400 to its junction with Ford Spearville Road, then east on Ford Spearville Road to Ford County Road 126 (South Stafford Street), then north on Ford County Road 126 to Garnett Road, then west on Garnett Road to Ford County Road 126, then north on Ford County Road 126 to Davis Street, then west on Davis Street to North Main Street, then north on North Main Street to its junction with Federal Hwy U.S.-56, then east on Federal Hwy U.S.-56 to its junction with Federal Hwy U.S.-183, then south on Federal Hwy U.S.-183 to its junction with Federal Hwy U.S.-54, then east on Federal Hwy U.S.-54 to its junction with Federal Hwy U.S.-281, then north on Federal Hwy U.S.-281 to its junction with State Hwy K-19, then west on State Hwy K-19 to its junction with Federal Hwy U.S.-56, then east on Federal Hwy U.S.-56 to its junction with State Hwy K-96, then southeast on State Hwy K-96 to its junction with State Hwy K-61, then northeast on State Hwy K-61 to its junction with McPherson County Arapaho Road, then east on McPherson County Arapaho Road to its junction with McPherson County 14th Avenue, then north on McPherson County 14th Avenue to its junction with State Hwy K-61, then east on State Hwy K-61 to its junction with interstate Hwy I-135, then north on interstate Hwy I-135 to its junction with State Hwy K-4, then west on State Hwy K-4 to its junction with Federal Hwy U.S.-281, then north on Federal Hwy U.S.-281 to its junction with State Hwy K-18, then east on State Hwy K-18 to its junction with Federal Hwy U.S.-181, then north on Federal Hwy U.S.-181 to its junction with Federal Hwy U.S.-24, then east on Federal Hwy U.S.-24 to its junction with State Hwy K-9, then east on State Hwy K-9 to its junction with Cloud County 40th Road, then north on Cloud County 40th Road to its junction with Republic County 50th Road, then north on Republic County 50th Road to its junction with State Hwy K-148, then west on State Hwy K-148 to its junction with Republic County 30th Road, then north on Republic County 30th Road to its junction with State Hwy K-199, then north on State Hwy K-199 to its junction with Federal Hwy U.S.-36, then west on Federal Hwy U.S.-36 to its junction with Federal Hwy U.S.-281, then south on Federal Hwy U.S.-281 to its junction with Federal Hwy U.S.-24, then west on Federal Hwy U.S.-24 to its junction with Federal Hwy U.S.-183, then south on Federal Hwy U.S.-183 to its junction with Federal Hwy U.S.-96, and then west on Federal Hwy U.S.-96 to its junction with Federal Hwy U.S.-283.

Low Plains Southeast Zone: That part of Kansas bounded by a line from the Missouri-Kansas State line west on K-68 to its junction with I-35, then southwest on I-35 to its junction with Butler County, NE 150th Street, then west on NE 150th Street to its junction with Federal Hwy U.S.-77, then south on Federal Hwy U.S.-77 to the Oklahoma-Kansas State line, then east along the Kansas-Oklahoma State line to its junction with the Kansas-Missouri State line, then north along the Kansas-Missouri State line to its junction with State Hwy K-68.

Montana (Central Flyway Portion)

Zone 1: The Counties of Blaine, Carter, Daniels, Dawson, Fallon, Fergus, Garfield, Golden Valley, Judith Basin, McCone, Musselshell, Petroleum, Phillips, Powder River, Richland, Roosevelt, Sheridan, Stillwater, Sweet Grass, Valley, Wheatland, and Wibaux.

Zone 2: The Counties of Big Horn, Carbon, Custer, Prairie, Rosebud, Treasure, and Yellowstone.

Nebraska

High Plains: That portion of Nebraska lying west of a line beginning at the South Dakota-Nebraska border on U.S. Hwy 183; south on U.S. Hwy 183 to U.S. Hwy 20; west on U.S. Hwy 20 to NE Hwy 7; south on NE Hwy 7 to NE Hwy 91; southwest on NE Hwy 91 to NE Hwy 2; southeast on NE Hwy 2 to NE Hwy 92; west on NE Hwy 92 to NE Hwy 40; south on NE Hwy 40 to NE Hwy 47; south on NE Hwy 47 to NE Hwy 23; east on NE Hwy 23 to U.S. Hwy 283; and south on U.S. Hwy 283 to the Kansas-Nebraska border.

Zone 1: Area bounded by designated Federal and State highways and political boundaries beginning at the South Dakota-Nebraska border at U.S. Hwy 183; south along Hwy 183 to NE Hwy 12; east to NE Hwy 137; south to U.S. Hwy 20; east to U.S. Hwy 281; north to the Niobrara River; east along the Niobrara River to the Boyd County Line; north along the Boyd County line to NE Hwy 12; east to NE 26E Spur; north along the NE 26E Spur to the Ponca State Park boat ramp; north and west along the Missouri River to the Nebraska-South Dakota border; west along the Nebraska-South Dakota border to U.S. Hwy 183. Both banks of the Niobrara River in Keya Paha and Boyd counties east of U.S. Hwy 183 shall be included in Zone 1.

Zone 2: Those areas of the State that are not contained in Zones 1, 3, or 4.

Zone 3: Area bounded by designated Federal and State highways, County Roads, and political boundaries beginning at the Wyoming-Nebraska border at its northernmost intersection with the Interstate Canal; southeast along the Interstate Canal to the northern border of Scotts Bluff County; east along northern borders of Scotts Bluff and Morrill Counties to Morrill County Road 125; south to Morrill County Rd 94; east to County Rd 135; south to County Rd 88; east to County Rd 147; south to County Rd 88; southeast to County Rd 86; east to County Rd 151; south to County Rd 80; east to County Rd 161; south to County Rd 76; east to County Rd 165; south to County Rd 167; south to U.S. Hwy 26; east to County Rd 171; north to County Rd 68; east to County Rd 183; south to County Rd 64; east to County Rd 189; north to County Rd 70; east to County Rd 201; south to County Rd 60A; east to County Rd 203; south to County Rd 52; east to Keith County Line; north along the Keith County line to the northern border of Keith County; east along the northern boundaries of Keith and Lincoln Counties to NE Hwy 97; south to U.S. Hwy 83; south to E Hall School Rd; east to North Airport Road; south to U.S. Hwy 30; east to NE Hwy 47; south to NE Hwy 23; east on NE Hwy 23 to U.S. Hwy 283; south on U.S. Hwy 283 to the Kansas-Nebraska border; west along Kansas-Nebraska border to the Nebraska-Colorado border; north and west to the Wyoming-Nebraska border; north along the Wyoming-Nebraska border to its northernmost-intersection with the Interstate Canal.

Zone 4: Area encompassed by designated Federal and State highways and County Roads beginning at the intersection of U.S. Hwy 283 at the Kansas-Nebraska border; north to NE Hwy 23; west to NE Hwy 47; north to Dawson County Rd 769; east to County Rd 423; south to County Rd 766; east to County Rd 428; south to County Rd 763; east to NE Hwy 21; south to County Rd 761; east on County Rd 761 to County Road 437; south to the Dawson County Canal; southeast along Dawson County Canal; east to County Rd 444; south to U.S. Hwy 30; east to U.S. Hwy 183; north to Buffalo County Rd 100; east to 46th Ave.; north to NE Hwy 40; east to NE Hwy 10; north to County Rd 220 and Hall County Husker Highway; east to Hall County S 70th Rd; north to NE Hwy 2; east to U.S. Hwy 281; north to Chapman Rd; east to 7th Rd; south to U.S. Hwy 30; north and east to NE Hwy 14; south to County Rd 22; west to County Rd M; south to County Rd 21; west to County Rd K; south to U.S. Hwy 34; west to NE Hwy 2; south to U.S. Hwy I-80; west to Gunbarrel Rd (Hall/Hamilton County line); south to Giltner Rd; west to U.S. Hwy 281; south to W 82nd St; west to Holstein Ave.; south to U.S. Hwy 34; west to NE Hwy 10; north to Kearney County Rd R and Phelps County Rd 742; west to Gosper County Rd 433; south to N Railway Street; west to Commercial Ave.; south to NE Hwy 23; west to Gosper County Rd 427; south to Gosper County Rd 737; west to Gosper County Rd 426; south to Gosper County Rd 735; east to Gosper County Rd 427; south to Furnas County Rd 276; west to Furnas County Rd 425.5/425; south to U.S. Hwy 34; east to NE Hwy 4; east to NE Hwy 10; south to U.S. Hwy 136; east to NE Hwy 14; south to NE Hwy 8; east to U.S. Hwy 81; north to NE Hwy 4; east to NE Hwy 15; north to U.S. Hwy 6; east to NE Hwy 33; east to SW 142 Street; south to W Hallam Rd; east to SW 100 Rd; south to W Chestnut Rd; west to NE Hwy 103; south to NE Hwy 4; west to NE Hwy 15; south to U.S. Hwy 136; east to Jefferson County Rd 578 Ave.; south to PWF Rd; east to NE Hwy 103; south to NE Hwy 8; east to U.S. Hwy 75; north to U.S. Hwy 136; east to the intersection of U.S. Hwy 136 and the Steamboat Trace (Trace); north along the Trace to the intersection with Federal Levee R-562; north along Federal Levee R-562 to the intersection with Nemaha County Rd 643A; south to the Trace; north along the Trace/Burlington Northern Railroad right-of-way to NE Hwy 2; west to U.S. Hwy 75; north to NE Hwy 2; west to NE Hwy 50; north to Otoe County Rd D; east to N 32nd Rd; north to Otoe County Rd B; west to NE Hwy 50; north to U.S. Hwy 34; west to NE Hwy 63; north to NE Hwy 66; north and west to U.S. Hwy 77; north to NE Hwy 109; west along NE Hwy 109 and Saunders County Rd X to Saunders County 19; south to NE Hwy 92; west to NE Hwy Spur 12F; south to Butler County Rd 30; east to County Rd X; south to County Rd 27; west to County Rd W; south to County Rd 26; east to County Rd X; south to County Rd 21 (Seward County Line); west to NE Hwy 15; north to County Rd 34; west to County Rd H; south to NE Hwy 92; west to U.S. Hwy 81; south to NE Hwy 66; west to Dark Island Trail, north to Merrick County Rd M; east to Merrick County Rd 18; north to NE Hwy 92; west to NE Hwy 14; north to NE Hwy 52; west and north to NE Hwy 91; west to U.S. Hwy 281; south to NE Hwy 58; west to NE Hwy 11; west and south to NE Hwy 2; west to NE Hwy 68; north to NE Hwy L82A; west to NE Hwy 10; north to NE Hwy 92; west to U.S. Hwy 183; north to Round Valley Rd; west to Sargent River Rd; west to Sargent Rd; west to NE Hwy S21A; west to NE Hwy 2; north to NE Hwy 91 to North Loup Spur Rd; north to North Loup River Rd; north and east along to Pleasant Valley/Worth Rd; east to Loup County Line; north along the Loup County Line to Loup-Brown County line; east along northern boundaries of Loup and Garfield Counties to NE Hwy 11; south to Cedar River Road; east and south to NE Hwy 70; east to U.S. Hwy 281; north to NE Hwy 70; east to NE Hwy 14; south to NE Hwy 39; southeast to NE Hwy 22; east to U.S. Hwy 81; southeast to U.S. Hwy 30; east to the Iowa-Nebraska border; south to the Missouri-Nebraska border; south to Kansas-Nebraska border; west along Kansas-Nebraska border to U.S. Hwy 283.

New Mexico (Central Flyway Portion)

North Zone: That portion of the State north of I-40 and U.S. 54.

South Zone: The remainder of New Mexico.

North Dakota

High Plains: That portion of the State south and west of a line beginning at the junction of U.S. Hwy 83 and the South Dakota State line, then north along U.S. Hwy 83 and I-94 to ND Hwy 41, then north on ND Hwy 41 to ND Hwy 53, then west on ND Hwy 53 to U.S. Hwy 83, then north on U.S. Hwy 83 to U.S. Hwy 2, then west on U.S. Hwy 2 to the Williams County line, then north and west along the Williams and Divide County lines to the Canadian border.

Low Plains: The remainder of North Dakota.

Oklahoma

High Plains: The Counties of Beaver, Cimarron, and Texas.

Low Plains Zone 1: That portion of the State east of the High Plains Zone and north of a line extending east from the Texas State line along OK 33 to OK 47, east along OK 47 to U.S. 183, south along U.S. 183 to I-40, east along I-40 to U.S. 177, north along U.S. 177 to OK 33, east along OK 33 to OK 18, north along OK 18 to OK 51, west along OK 51 to I-35, north along I-35 to U.S. 412, west along U.S. 412 to OK 132, then north along OK 132 to the Kansas State line.

Low Plains Zone 2: The remainder of Oklahoma.

South Dakota

High Plains: That portion of the State west of a line beginning at the North Dakota State line and extending south along U.S. 83 to U.S. 14, east on U.S. 14 to Blunt, south on the Blunt-Canning Road to SD 34, east and south on SD 34 to SD 50 at Lee's Corner, south on SD 50 to I-90, east on I-90 to SD 50, south on SD 50 to SD 44, west on SD 44 across the Platte-Winner bridge to SD 47, south on SD 47 to U.S. 18, east on U.S. 18 to SD 47, south on SD 47 to the Nebraska State line.

Low Plains North Zone: That portion of northeastern South Dakota east of the High Plains Unit and north of a line extending east along U.S. 212 to the Minnesota State line.

Low Plains South Zone: That portion of Gregory County east of SD 47 and south of SD 44; Charles Mix County south of SD 44 to the Douglas County line; south on SD 50 to Geddes; east on the Geddes Highway to U.S. 281; south on U.S. 281 and U.S. 18 to SD 50; south and east on SD 50 to the Bon Homme County line; the Counties of Bon Homme, Yankton, and Clay south of SD 50; and Union County south and west of SD 50 and I-29.

Low Plains Middle Zone: The remainder of South Dakota.

Texas

High Plains: That portion of the State west of a line extending south from the Oklahoma State line along U.S. 183 to Vernon, south along U.S. 283 to Albany, south along TX 6 to TX 351 to Abilene, south along U.S. 277 to Del Rio, then south along the Del Rio International Toll Bridge access road to the Mexico border.

Low Plains North Zone: That portion of northeastern Texas east of the High Plains Zone and north of a line beginning at the International Toll Bridge south of Del Rio, then extending east on U.S. 90 to San Antonio, then continuing east on I-10 to the Louisiana State line at Orange, Texas.

Low Plains South Zone: The remainder of Texas.

Wyoming (Central Flyway portion)

Zone C1: Big Horn, Converse, Goshen, Hot Springs, Natrona, Park, Platte, and Washakie Counties; and Fremont County excluding the portions west or south of the Continental Divide.

Zone C2: Campbell, Crook, Johnson, Niobrara, Sheridan, and Weston Counties.

Zone C3: Albany and Laramie Counties; and that portion of Carbon County east of the Continental Divide.

Pacific Flyway

Arizona

North Zone: Game Management Units 1-5, those portions of Game Management Units 6 and 8 within Coconino County, and Game Management Units 7, 9, and 12A.

South Zone: Those portions of Game Management Units 6 and 8 in Yavapai County, and Game Management Units 10 and 12B-45.

California

Northeastern Zone: That portion of California lying east and north of a line beginning at the intersection of Interstate 5 with the California-Oregon line; south along Interstate 5 to its junction with Walters Lane south of the town of Yreka; west along Walters Lane to its junction with Easy Street; south along Easy Street to the junction with Old Highway 99; south along Old Highway 99 to the point of intersection with Interstate 5 north of the town of Weed; south along Interstate 5 to its junction with Highway 89; east and south along Highway 89 to Main Street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada State line; north along the California-Nevada State line to the junction of the California-Nevada-Oregon State lines; west along the California-Oregon State line to the point of origin.

Colorado River Zone: Those portions of San Bernardino, Riverside, and Imperial Counties east of a line from the intersection of Highway 95 with the California-Nevada State line; south on Highway 95 through the junction with Highway 40; south on Highway 95 to Vidal Junction; south through the town of Rice to the San Bernardino-Riverside County line on a road known as “Aqueduct Road” also known as Highway 62 in San Bernardino County; southwest on Highway 62 to Desert Center Rice Road; south on Desert Center Rice Road/Highway 177 to the town of Desert Center; east 31 miles on Interstate 10 to its intersection with Wiley Well Road; south on Wiley Well Road to Wiley Well; southeast on Milpitas Wash Road to the Blythe, Brawley, Davis Lake intersections; south on Blythe Ogilby Road also known as County Highway 34 to its intersection with Ogilby Road; south on Ogilby Road to its intersection with Interstate 8; east 7 miles on Interstate 8 to its intersection with the Andrade-Algodones Road/Highway 186; south on Highway 186 to its intersection with the U.S.-Mexico border at Los Algodones, Mexico.

Southern Zone: That portion of southern California (but excluding the Colorado River zone) south and east of a line beginning at the mouth of the Santa Maria River at the Pacific Ocean; east along the Santa Maria River to where it crosses Highway 101-166 near the City of Santa Maria; north on Highway 101-166; east on Highway 166 to the junction with Highway 99; south on Highway 99 to the junction of Interstate 5; south on Interstate 5 to the crest of the Tehachapi Mountains at Tejon Pass; east and north along the crest of the Tehachapi Mountains to where it intersects Highway 178 at Walker Pass; east on Highway 178 to the junction of Highway 395 at the town of Inyokern; south on Highway 395 to the junction of Highway 58; east on Highway 58 to the junction of Interstate 15; east on Interstate 15 to the junction with Highway 127; north on Highway 127 to the point of intersection with the California-Nevada State line.

Southern San Joaquin Valley Zone: All of Kings and Tulare Counties and that portion of Kern County north of the Southern Zone.

Balance of State Zone: The remainder of California not included in the Northeastern, Colorado River, Southern, and the Southern San Joaquin Valley Zones.

Colorado (Pacific Flyway Portion)

Eastern Zone: Routt, Grand, Summit, Eagle, and Pitkin Counties, those portions of Saguache, San Juan, Hinsdale, and Mineral Counties west of the Continental Divide, those portions of Gunnison County except the North Fork of the Gunnison River Valley (Game Management Units 521, 53, and 63), and that portion of Moffat County east of the northern intersection of Moffat County Road 29 with the Moffat-Routt County line, south along Moffat County Road 29 to the intersection of Moffat County Road 29 with the Moffat-Routt County line (Elkhead Reservoir State Park).

Western Zone: All areas west of the Continental Divide not included in the Eastern Zone.

Idaho

Zone 1: All lands and waters within the Fort Hall Indian Reservation, including private inholdings; Power County east of State Highway 37 and State Highway 39; and Bannock, Bear Lake, Bingham, Bonneville, Butte, Caribou, Clark, Fremont, Jefferson, Madison, and Teton Counties.

Zone 2: Benewah, Bonner, Boundary, Kootenai, and Shoshone Counties.

Zone 3: Power County west of State Highway 37 and State Highway 39, and Ada, Adams, Blaine, Boise, Camas, Canyon, Cassia, Clearwater, Custer, Elmore, Franklin, Gem, Gooding, Idaho, Jerome, Latah, Lemhi, Lewis, Lincoln, Minidoka, Nez Perce, Oneida, Owyhee, Payette, Twin Falls, and Washington Counties.

Zone 4: Valley County.

Nevada

Northeast Zone: Elko, Eureka, Lander, and White Pine Counties.

Northwest Zone: Carson City, Churchill, Douglas, Humboldt, Lyon, Mineral, Pershing, Storey, and Washoe Counties.

South Zone: Clark, Esmeralda, Lincoln, and Nye Counties.

Moapa Valley Special Management Area: That portion of Clark County including the Moapa Valley to the confluence of the Muddy and Virgin Rivers.

Oregon

Zone 1: Benton, Clackamas, Clatsop, Columbia, Coos, Curry, Douglas, Gilliam, Hood River, Jackson, Josephine, Lane, Lincoln, Linn, Marion, Morrow, Multnomah, Polk, Sherman, Tillamook, Umatilla, Wasco, Washington, and Yamhill, Counties.

Zone 2: The remainder of Oregon not included in Zone 1.

Utah

Zone 1: Box Elder, Cache, Daggett, Davis, Duchesne, Morgan, Rich, Salt Lake, Summit, Uintah, Utah, Wasatch, and Weber Counties, and that part of Toole County north of I-80.

Zone 2: The remainder of Utah not included in Zone 1.

Washington

East Zone: All areas east of the Pacific Crest Trail and east of the Big White Salmon River in Klickitat County.

West Zone: The remainder of Washington not included in the East Zone.

Wyoming (Pacific Flyway Portion)

Snake River Zone: Beginning at the south boundary of Yellowstone National Park and the Continental Divide; south along the Continental Divide to Union Pass and the Union Pass Road (U.S.F.S. Road 600); west and south along the Union Pass Road to U.S.F.S. Road 605; south along U.S.F.S. Road 605 to the Bridger-Teton National Forest boundary; along the national forest boundary to the Idaho State line; north along the Idaho State line to the south boundary of Yellowstone National Park; east along the Yellowstone National Park boundary to the Continental Divide.

Balance of State Zone: The remainder of the Pacific Flyway portion of Wyoming not included in the Snake River Zone.

Geese

Atlantic Flyway

Connecticut

Early Canada and Cackling Goose Seasons

South Zone: Same as for ducks.

North Zone: Same as for ducks.

Regular Seasons

AP Unit: Litchfield County and the portion of Hartford County west of a line beginning at the Massachusetts border in Suffield and extending south along Route 159 to its intersection with I-91 in Hartford, and then extending south along I-91 to its intersection with the Hartford-Middlesex County line.

NAP H-Unit: That part of the State east of a line beginning at the Massachusetts border in Suffield and extending south along Route 159 to its intersection with I-91 in Hartford and then extending south along I-91 to State Street in New Haven; then south on State Street to Route 34, west on Route 34 to Route 8, south along Route 8 to Route 110, south along Route 110 to Route 15, north along Route 15 to the Milford Parkway, south along the Milford Parkway to I-95, north along I-95 to the intersection with the east shore of the Quinnipiac River, south to the mouth of the Quinnipiac River and then south along the eastern shore of New Haven Harbor to the Long Island Sound.

Atlantic Flyway Resident Population (AFRP) Unit: Remainder of the State not included in AP and NAP Units.

South Zone: Same as for ducks.

Maine

North NAP-H Zone: Same as North Zone for ducks.

Coastal NAP-L Zone: Same as Coastal Zone for ducks.

South NAP-H Zone: Same as South Zone for ducks.

Maryland

Early Canada and Cackling Goose Seasons

Eastern Unit: Calvert, Caroline, Cecil, Dorchester, Harford, Kent, Queen Anne's, St. Mary's, Somerset, Talbot, Wicomico, and Worcester Counties; and that part of Anne Arundel County east of Interstate 895, Interstate 97, and Route 3; that part of Prince George's County east of Route 3 and Route 301; and that part of Charles County east of Route 301 to the Virginia State line.

Western Unit: Allegany, Baltimore, Carroll, Frederick, Garrett, Howard, Montgomery, and Washington Counties and that part of Anne Arundel County west of Interstate 895, Interstate 97, and Route 3; that part of Prince George's County west of Route 3 and Route 301; and that part of Charles County west of Route 301 to the Virginia State line.

Regular Seasons

Resident Population (RP) Zone: Allegany, Frederick, Garrett, Montgomery, and Washington Counties; that portion of Prince George's County west of Route 3 and Route 301; that portion of Charles County west of Route 301 to the Virginia State line; and that portion of Carroll County west of Route 31 to the intersection of Route 97, and west of Route 97 to the Pennsylvania State line.

AP Zone: Remainder of the State.

Massachusetts

NAP Zone: Central and Coastal Zones (see duck zones).

AP Zone: The Western Zone (see duck zones).

Special Late Season Area: The Central Zone and that portion of the Coastal Zone (see duck zones) that lies north of the Cape Cod Canal, north to the New Hampshire State line.

New Hampshire

Same zones as for ducks.

New Jersey

AP Zone: North and South Zones (see duck zones).

NAP Zone: The Coastal Zone (see duck zones).

Special Late Season Area: In northern New Jersey, that portion of the State within a continuous line that runs east along the New York State boundary line to the Hudson River; then south along the New York State boundary to its intersection with Route 440 at Perth Amboy; then west on Route 440 to its intersection with Route 287; then west along Route 287 to its intersection with Route 206 in Bedminster (Exit 18); then north along Route 206 to its intersection with Route 94; then west along Route 94 to the toll bridge in Columbia; then north along the Pennsylvania State boundary in the Delaware River to the beginning point. In southern New Jersey, that portion of the State within a continuous line that runs west from the Atlantic Ocean at Ship Bottom along Route 72 to Route 70; then west along Route 70 to Route 206; then south along Route 206 to Route 536; then west along Route 536 to Route 322; then west along Route 322 to Route 55; then south along Route 55 to Route 553 (Buck Road); then south along Route 553 to Route 40; then east along Route 40 to route 55; then south along Route 55 to Route 552 (Sherman Avenue); then west along Route 552 to Carmel Road; then south along Carmel Road to Route 49; then east along Route 49 to Route 555; then south along Route 555 to Route 553; then east along Route 553 to Route 649; then north along Route 649 to Route 670; then east along Route 670 to Route 47; then north along Route 47 to Route 548; then east along Route 548 to Route 49; then east along Route 49 to Route 50; then south along Route 50 to Route 9; then south along Route 9 to Route 625 (Sea Isle City Boulevard); then east along Route 625 to the Atlantic Ocean; then north to the beginning point.

New York

Lake Champlain Goose Area: The same as the Lake Champlain Waterfowl Hunting Zone, which is that area of New York State lying east and north of a continuous line extending along Route 11 from the New York-Canada international boundary south to Route 9B, south along Route 9B to Route 9, south along Route 9 to Route 22 south of Keeseville, south along Route 22 to the west shore of South Bay along and around the shoreline of South Bay to Route 22 on the east shore of South Bay, southeast along Route 22 to Route 4, northeast along Route 4 to the New York-Vermont boundary.

Northeast Goose Area: The same as the Northeastern Waterfowl Hunting Zone, which is that area of New York State lying north of a continuous line extending from Lake Ontario east along the north shore of the Salmon River to Interstate 81, south along Interstate 81 to Route 31, east along Route 31 to Route 13, north along Route 13 to Route 49, east along Route 49 to Route 365, east along Route 365 to Route 28, east along Route 28 to Route 29, east along Route 29 to Route 22 at Greenwich Junction, north along Route 22 to Washington County Route 153, east along CR 153 to the New York-Vermont boundary, exclusive of the Lake Champlain Zone.

East Central Goose Area: That area of New York State lying inside of a continuous line extending from Interstate Route 81 in Cicero, east along Route 31 to Route 13, north along Route 13 to Route 49, east along Route 49 to Route 365, east along Route 365 to Route 28, east along Route 28 to Route 29, east along Route 29 to Route 147 at Kimball Corners, south along Route 147 to Schenectady County Route 40 (West Glenville Road), west along Route 40 to Touareuna Road, south along Touareuna Road to Schenectady County Route 59, south along Route 59 to State Route 5, east along Route 5 to the Lock 9 bridge, southwest along the Lock 9 bridge to Route 5S, southeast along Route 5S to Schenectady County Route 58, southwest along Route 58 to the NYS Thruway, south along the Thruway to Route 7, southwest along Route 7 to Schenectady County Route 103, south along Route 103 to Route 406, east along Route 406 to Schenectady County Route 99 (Windy Hill Road), south along Route 99 to Dunnsville Road, south along Dunnsville Road to Route 397, southwest along Route 397 to Route 146 at Altamont, west along Route 146 to Albany County Route 252, northwest along Route 252 to Schenectady County Route 131, north along Route 131 to Route 7, west along Route 7 to Route 10 at Richmondville, south on Route 10 to Route 23 at Stamford, west along Route 23 to Route 7 in Oneonta, southwest along Route 7 to Route 79 to Interstate Route 88 near Harpursville, west along Route 88 to Interstate Route 81, north along Route 81 to the point of beginning.

West Central Goose Area: That area of New York State lying within a continuous line beginning at the point where the northerly extension of Route 269 (County Line Road on the Niagara-Orleans County boundary) meets the international boundary with Canada, south to the shore of Lake Ontario at the eastern boundary of Golden Hill State Park, south along the extension of Route 269 and Route 269 to Route 104 at Jeddo, west along Route 104 to Niagara County Route 271, south along Route 271 to Route 31E at Middleport, south along Route 31E to Route 31, west along Route 31 to Griswold Street, south along Griswold Street to Ditch Road, south along Ditch Road to Foot Road, south along Foot Road to the north bank of Tonawanda Creek, west along the north bank of Tonawanda Creek to Route 93, south along Route 93 to Route 5, east along Route 5 to Crittenden-Murrays Corners Road, south on Crittenden-Murrays Corners Road to the NYS Thruway, east along the Thruway 90 to Route 98 (at Thruway Exit 48) in Batavia, south along Route 98 to Route 20, east along Route 20 to Route 19 in Pavilion Center, south along Route 19 to Route 63, southeast along Route 63 to Route 246, south along Route 246 to Route 39 in Perry, northeast along Route 39 to Route 20A, northeast along Route 20A to Route 20, east along Route 20 to Route 364 (near Canandaigua), south and east along Route 364 to Yates County Route 18 (Italy Valley Road), southwest along Route 18 to Yates County Route 34, east along Route 34 to Yates County Route 32, south along Route 32 to Steuben County Route 122, south along Route 122 to Route 53, south along Route 53 to Steuben County Route 74, east along Route 74 to Route 54A (near Pulteney), south along Route 54A to Steuben County Route 87, east along Route 87 to Steuben County Route 96, east along Route 96 to Steuben County Route 114, east along Route 114 to Schuyler County Route 23, east and southeast along Route 23 to Schuyler County Route 28, southeast along Route 28 to Route 409 at Watkins Glen, south along Route 409 to Route 14, south along Route 14 to Route 224 at Montour Falls, east along Route 224 to Route 228 in Odessa, north along Route 228 to Route 79 in Mecklenburg, east along Route 79 to Route 366 in Ithaca, northeast along Route 366 to Route 13, northeast along Route 13 to Interstate Route 81 in Cortland, north along Route 81 to the north shore of the Salmon River to shore of Lake Ontario, extending generally northwest in a straight line to the nearest point of the international boundary with Canada, south and west along the international boundary to the point of beginning.

Hudson Valley Goose Area: That area of New York State lying within a continuous line extending from Route 4 at the New York-Vermont boundary, west and south along Route 4 to Route 149 at Fort Ann, west on Route 149 to Route 9, south along Route 9 to Interstate Route 87 (at Exit 20 in Glens Falls), south along Route 87 to Route 29, west along Route 29 to Route 147 at Kimball Corners, south along Route 147 to Schenectady County Route 40 (West Glenville Road), west along Route 40 to Touareuna Road, south along Touareuna Road to Schenectady County Route 59, south along Route 59 to State Route 5, east along Route 5 to the Lock 9 bridge, southwest along the Lock 9 bridge to Route 5S, southeast along Route 5S to Schenectady County Route 58, southwest along Route 58 to the NYS Thruway, south along the Thruway to Route 7, southwest along Route 7 to Schenectady County Route 103, south along Route 103 to Route 406, east along Route 406 to Schenectady County Route 99 (Windy Hill Road), south along Route 99 to Dunnsville Road, south along Dunnsville Road to Route 397, southwest along Route 397 to Route 146 at Altamont, southeast along Route 146 to Main Street in Altamont, west along Main Street to Route 156, southeast along Route 156 to Albany County Route 307, southeast along Route 307 to Route 85A, southwest along Route 85A to Route 85, south along Route 85 to Route 443, southeast along Route 443 to Albany County Route 301 at Clarksville, southeast along Route 301 to Route 32, south along Route 32 to Route 23 at Cairo, west along Route 23 to Joseph Chadderdon Road, southeast along Joseph Chadderdon Road to Hearts Content Road (Greene County Route 31), southeast along Route 31 to Route 32, south along Route 32 to Greene County Route 23A, east along Route 23A to Interstate Route 87 (the NYS Thruway), south along Route 87 to Route 28 (Exit 19) near Kingston, northwest on Route 28 to Route 209, southwest on Route 209 to the New York-Pennsylvania boundary, southeast along the New York-Pennsylvania boundary to the New York-New Jersey boundary, southeast along the New York-New Jersey boundary to Route 210 near Greenwood Lake, northeast along Route 210 to Orange County Route 5, northeast along Orange County Route 5 to Route 105 in the Village of Monroe, east and north along Route 105 to Route 32, northeast along Route 32 to Orange County Route 107 (Quaker Avenue), east along Route 107 to Route 9W, north along Route 9W to the south bank of Moodna Creek, southeast along the south bank of Moodna Creek to the New Windsor-Cornwall town boundary, northeast along the New Windsor-Cornwall town boundary to the Orange-Dutchess County boundary (middle of the Hudson River), north along the county boundary to Interstate Route 84, east along Route 84 to the Dutchess-Putnam County boundary, east along the county boundary to the New York-Connecticut boundary, north along the New York-Connecticut boundary to the New York-Massachusetts boundary, north along the New York-Massachusetts boundary to the New York-Vermont boundary, north to the point of beginning.

Eastern Long Island Goose Area (NAP High Harvest Area): That area of Suffolk County lying east of a continuous line extending due south from the New York-Connecticut boundary to the northernmost end of Roanoke Avenue in the Town of Riverhead; then south on Roanoke Avenue (which becomes County Route 73) to State Route 25; then west on Route 25 to Peconic Avenue; then south on Peconic Avenue to County Route (CR) 104 (Riverleigh Avenue); then south on CR 104 to CR 31 (Old Riverhead Road); then south on CR 31 to Oak Street; then south on Oak Street to Potunk Lane; then west on Stevens Lane; then south on Jessup Avenue (in Westhampton Beach) to Dune Road (CR 89); then due south to international waters.

Western Long Island Goose Area (RP Area): That area of Westchester County and its tidal waters southeast of Interstate Route 95 and that area of Nassau and Suffolk Counties lying west of a continuous line extending due south from the New York-Connecticut boundary to the northernmost end of Sound Road (just east of Wading River Marsh); then south on Sound Road to North Country Road; then west on North Country Road to Randall Road; then south on Randall Road to Route 25A, then west on Route 25A to the Sunken Meadow State Parkway; then south on the Sunken Meadow Parkway to the Sagtikos State Parkway; then south on the Sagtikos Parkway to the Robert Moses State Parkway; then south on the Robert Moses Parkway to its southernmost end; then due south to international waters.

Central Long Island Goose Area (NAP Low Harvest Area): That area of Suffolk County lying between the Western and Eastern Long Island Goose Areas, as defined above.

South Goose Area: The remainder of New York State, excluding New York City.

North Carolina

Northeast Zone: Includes the following counties or portions of counties: Bertie (that portion north and east of a line formed by NC 45 at the Washington County line to U.S. 17 in Midway, U.S. 17 in Midway to U.S. 13 in Windsor, U.S. 13 in Windsor to the Hertford County line), Camden, Chowan, Currituck, Dare, Hyde, Pasquotank, Perquimans, Tyrrell, and Washington.

RP Zone: Remainder of the State.

Pennsylvania

Resident Canada and Cackling Goose Zone: All of Pennsylvania except for the SJBP Zone and the area east of route SR 97 from the Maryland State Line to the intersection of SR 194, east of SR 194 to the intersection of U.S. Route 30, south of U.S. Route 30 to SR 441, east of SR 441 to SR 743, east of SR 743 to intersection of I-81, east of I-81 to intersection of I-80, and south of I-80 to the New Jersey State line.

SJBP Zone: The area north of I-80 and west of I-79 including in the city of Erie west of Bay Front Parkway to and including the Lake Erie Duck zone (Lake Erie, Presque Isle, and the area within 150 yards of the Lake Erie shoreline).

AP Zone: The area east of route SR 97 from Maryland State Line to the intersection of SR 194, east of SR 194 to intersection of U.S. Route 30, south of U.S. Route 30 to SR 441, east of SR 441 to SR 743, east of SR 743 to intersection of I-81, east of I-81 to intersection ofI-80, south of I-80 to the New Jersey State line.

Rhode Island

Special Area for Canada and Cackling Geese: Kent and Providence Counties and portions of the towns of Exeter and North Kingston within Washington County (see State regulations for detailed descriptions).

South Carolina

Canada and Cackling Goose Area: Statewide except for the following area:

East of U.S. 301: That portion of Clarendon County bounded to the North by S-14-25, to the East by Hwy 260, and to the South by the markers delineating the channel of the Santee River.

West of U.S. 301: That portion of Clarendon County bounded on the North by S-14-26 extending southward to that portion of Orangeburg County bordered by Hwy 6.

Vermont

Same zones as for ducks.

Virginia

AP Zone: The area east and south of the following line—the Stafford County line from the Potomac River west to Interstate 95 at Fredericksburg, then south along Interstate 95 to Petersburg, then Route 460 (SE) to City of Suffolk, then south along Route 32 to the North Carolina line.

SJBP Zone: The area to the west of the AP Zone boundary and east of the following line: the “Blue Ridge” (mountain spine) at the West Virginia-Virginia border (Loudoun County-Clarke County line) south to Interstate 64 (the Blue Ridge line follows county borders along the western edge of Loudoun-Fauquier-Rappahannock-Madison-Greene-Albemarle and into Nelson Counties), then east along Interstate Route 64 to Route 15, then south along Route 15 to the North Carolina line.

RP Zone: The remainder of the State west of the SJBP Zone.

Mississippi Flyway

Arkansas

Northwest Zone: Baxter, Benton, Boone, Carroll, Conway, Crawford, Faulkner, Franklin, Johnson, Logan, Madison, Marion, Newton, Perry, Pope, Pulaski, Searcy, Sebastian, Scott, Van Buren, Washington, and Yell Counties.

Remainder of State: That portion of the State outside of the Northwest Zone.

Illinois

North Zone: That portion of the State north of a line extending west from the Indiana border along Interstate 80 toI-39, south along I-39 to Illinois Route 18, west along Illinois Route 18 to Illinois Route 29, south along Illinois Route 29 to Illinois Route 17, west along Illinois Route 17 to the Mississippi River, and due south across the Mississippi River to the Iowa border.

Central Zone: That portion of the State south of the North Goose Zone line to a line extending west from the Indiana border along I-70 to Illinois Route 4, south along Illinois Route 4 to Illinois Route 161, west along Illinois Route 161 to Illinois Route 158, south and west along Illinois Route 158 to Illinois Route 159, south along Illinois Route 159 to Illinois Route 3, south along Illinois Route 3 to St. Leo's Road, south along St. Leo's Road to Modoc Road, west along Modoc Road to Modoc Ferry Road, southwest along Modoc Ferry Road to Levee Road, southeast along Levee Road to County Route 12 (Modoc Ferry entrance Road), south along County Route 12 to the Modoc Ferry route and southwest on the Modoc Ferry route across the Mississippi River to the Missouri border.

South Zone: Same zone as for ducks.

South Central Zone: Same zone as for ducks.

Indiana

Same zones as for ducks.

Iowa

Same zones as for ducks.

Louisiana

North Zone: That portion of the State north of the line from the Texas border at State Hwy 190/12 east to State Hwy 49, then south on State Hwy 49 to Interstate 10, then east on Interstate 10 to Interstate 12, then east on Interstate 12 to Interstate 10, then east on Interstate 10 to the Mississippi State line.

South Zone: Remainder of the State.

Michigan

North Zone: Same as North duck zone.

Middle Zone: Same as Middle duck zone.

South Zone: Same as South duck zone.

Allegan County Game Management Unit (GMU): That area encompassed by a line beginning at the junction of 136th Avenue and Interstate Highway 196 in Lake Town Township and extending easterly along 136th Avenue to Michigan Highway 40, southerly along Michigan 40 through the city of Allegan to 108th Avenue in Trowbridge Township, westerly along 108th Avenue to 46th Street, northerly along 46th Street to 109th Avenue, westerly along 109th Avenue to I-196 in Casco Township, then northerly along I-196 to the point of beginning.

Muskegon Wastewater GMU: That portion of Muskegon County within the boundaries of the Muskegon County wastewater system, east of the Muskegon State Game Area, in sections 5, 6, 7, 8, 17, 18, 19, 20, 29, 30, and 32, T10N R14W, and sections 1, 2, 10, 11, 12, 13, 14, 24, and 25, T10N R15W, as posted.

Minnesota

Same zones as for ducks.

Missouri

Same zones as for ducks.

Ohio

Same zones as for ducks.

Tennessee

Reelfoot Zone: The lands and waters within the boundaries of Reelfoot Lake WMA only.

Remainder of State: The remainder of the State.

Wisconsin

North and South Zones: Same zones as for ducks.

Mississippi River Zone: That area encompassed by a line beginning at the intersection of the Burlington Northern & Santa Fe Railway and the Illinois State line in Grant County and extending northerly along the Burlington Northern & Santa Fe Railway to the city limit of Prescott in Pierce County, then west along the Prescott city limit to the Minnesota State line.

Central Flyway

Colorado (Central Flyway Portion)

Northern Front Range Area: All areas in Boulder, Larimer, and Weld Counties from the Continental Divide east along the Wyoming border to U.S. 85, south on U.S. 85 to the Adams County line, and all lands in Adams, Arapahoe, Broomfield, Clear Creek, Denver, Douglas, Gilpin, and Jefferson Counties.

North Park Area: Jackson County.

South Park Area: Chaffee, Custer, Fremont, Lake, Park, and Teller Counties.

San Luis Valley Area: All of Alamosa, Conejos, Costilla, and Rio Grande Counties, and those portions of Saguache, Mineral, Hinsdale, Archuleta, and San Juan Counties east of the Continental Divide.

Remainder: Remainder of the Central Flyway portion of Colorado.

Eastern Colorado Late Light Goose Area: That portion of the State east of Interstate Highway 25.

Montana (Central Flyway Portion)

Zone 1: Same as Zone 1 for ducks and coots.

Zone 2: Same as Zone 2 for ducks and coots.

Nebraska

Dark Geese

Niobrara Unit: That area contained within and bounded by the intersection of the Nebraska-South Dakota border and U.S. Hwy 83, south to U.S. Hwy 20, east to NE Hwy 14, north along NE Hwy 14 to NE Hwy 59 and County Road 872, west along County Road 872 to the Knox County Line, north along the Knox County Line to the Nebraska-South Dakota border, west along the Nebraska-South Dakota border to U.S. Hwy 83. Where the Niobrara River forms the boundary, both banks of the river are included in the Niobrara Unit.

Platte River Unit: The area bounded starting at the northernmost intersection of the Interstate Canal at the Nebraska-Wyoming border, south along the Nebraska-Wyoming border to the Nebraska-Colorado border, east and south along the Nebraska-Colorado border to the Nebraska-Kansas border, east along the Nebraska-Kansas border to the Nebraska-Missouri border, north along the Nebraska-Missouri and Nebraska-Iowa borders to the Burt-Washington County line, west along the Burt-Washington County line to U.S. Hwy 75, south to Dodge County Road 4/Washington County Road 4, west to U.S. Hwy 77, south to U.S. Hwy 275, northwest to U.S. Hwy 91, west to NE Hwy 45, north to NE Hwy 32, west to NE Hwy 14, north to NE Hwy 70, west to U.S. Hwy 281, south to NE Hwy 70, west along NE Hwy 70/91 to NE Hwy 11, north to the Holt County Line, west along the northern border of Garfield, Loup, Blaine, and Thomas Counties to the Hooker County Line, south along the Thomas-Hooker County Lines to the McPherson County Line, east along the south border of Thomas County to the Custer County Line, south along the Cust-Logan County lines to NE Hwy 92, west to U.S. Hwy 83, north to NE Hwy 92, west to NE Hwy 61, north to NE Hwy 2, west along NE Hwy 2 to the corner formed by Garden, Grant, and Sheridan Counties, west along the north borders of Garden, Morrill, and Scotts Bluff Counties to the intersection with the Interstate Canal, north and west along the Interstate Canal to the intersection with the Nebraska-Wyoming border.

North-Central Unit: Those portions of the State not in the Niobrara and Platte River zones.

Light Geese

Rainwater Basin Light Goose Area: The area bounded by the junction of NE Hwy 92 and NE Hwy 15, south along NE Hwy 15 to NE Hwy 4, west along NE Hwy 4 to U.S. Hwy 34, west along U.S. Hwy 34 to U.S. Hwy 283, north along U.S. Hwy 283 to U.S. Hwy 30, east along U.S. Hwy 30 to NE Hwy 92, east along NE Hwy 92 to the beginning.

Remainder of State: The remainder of Nebraska.

New Mexico (Central Flyway Portion)

Dark Geese

Middle Rio Grande Valley Unit: Sierra, Socorro, and Valencia Counties.

Remainder: The remainder of the Central Flyway portion of New Mexico.

North Dakota

Missouri River Canada and Cackling Goose Zone: The area within and bounded by a line starting where ND Hwy 6 crosses the South Dakota border; then north on ND Hwy 6 to I-94; then west on I-94 to ND Hwy 49; then north on ND Hwy 49 to ND Hwy 200; then west on ND Hwy 200; then north on ND Hwy 8 to the Mercer/McLean County line; then east following the county line until it turns south toward Garrison Dam; then east along a line (including Mallard Island) of Lake Sakakawea to U.S. Hwy 83; then south on U.S. Hwy 83 to ND Hwy 200; then east on ND Hwy 200 to ND Hwy 41; then south on ND Hwy 41 to U.S. Hwy 83; then south on U.S. Hwy 83 to I-94; then east onI-94 to U.S. Hwy 83; then south on U.S. Hwy 83 to the South Dakota border; then west along the South Dakota border to ND Hwy 6.

Western North Dakota Canada and Cackling Goose Zone: Same as the High Plains Unit for ducks, mergansers, and coots, excluding the Missouri River Canada Goose Zone.

Rest of State: Remainder of North Dakota.

South Dakota

Early Canada and Cackling Goose Seasons

Special Early Canada and Cackling Goose Unit: The Counties of Campbell, Clark, Codington, Day, Deuel, Grant, Hamlin, Marshall, Roberts, Walworth; that portion of Perkins County west of State Highway 75 and south of State Highway 20; that portion of Dewey County north of Bureau of Indian Affairs Road 8, Bureau of Indian Affairs Road 9, and the section of U.S. Highway 212 east of the Bureau of Indian Affairs Road 8 junction; that portion of Potter County east of U.S. Highway 83; that portion of Sully County east of U.S. Highway 83; portions of Hyde, Buffalo, Brule, and Charles Mix Counties north and east of a line beginning at the Hughes-Hyde County line on State Highway 34, east to Lees Boulevard, southeast to State Highway 34, east 7 miles to 350th Avenue, south to Interstate 90 on 350th Avenue, south and east on State Highway 50 to Geddes, east on 285th Street to U.S. Highway 281, and north on U.S. Highway 281 to the Charles Mix-Douglas County boundary; that portion of Bon Homme County north of State Highway 50; those portions of Yankton and Clay Counties north of a line beginning at the junction of State Highway 50 and 306th Street/County Highway 585 in Bon Homme County, east to U.S. Highway 81, then north on U.S. Highway 81 to 303rd Street, then east on 303rd Street to 444th Avenue, then south on 444th Avenue to 305th Street, then east on 305th Street/Bluff Road to State Highway 19, then south to State Highway 50 and east to the Clay/Union County Line; Aurora, Beadle, Brookings, Brown, Butte, Corson, Davison, Douglas, Edmunds, Faulk, Haakon, Hand, Hanson, Harding, Hutchinson, Jackson, Jerauld, Jones, Kingsbury, Lake, McCook, McPherson, Meade, Mellette, Miner, Moody, Oglala Lakota (formerly Shannon), Sanborn, Spink, Todd, Turner, and Ziebach Counties; and those portions of Minnehaha and Lincoln Counties outside of an area bounded by a line beginning at the junction of the South Dakota-Minnesota State line and Minnehaha County Highway 122 (254th Street) west to its junction with Minnehaha County Highway 149 (464th Avenue), south on Minnehaha County Highway 149 (464th Avenue) to Hartford, then south on Minnehaha County Highway 151 (463rd Avenue) to State Highway 42, east on State Highway 42 to State Highway 17, south on State Highway 17 to its junction with Lincoln County Highway 116 (Klondike Road), and east on Lincoln County Highway 116 (Klondike Road) to the South Dakota-Iowa State line, then north along the South Dakota-Iowa and South Dakota-Minnesota border to the junction of the South Dakota-Minnesota State line and Minnehaha County Highway 122 (254th Street).

Regular Seasons

Unit 1: Same as that for the Special Early Canada and Cackling Goose Unit.

Unit 2: All of South Dakota not included in Unit 1 and Unit 3.

Unit 3: Bennett County.

Texas

Northeast Goose Zone: That portion of Texas lying east and north of a line beginning at the Texas-Oklahoma border at U.S. 81, then continuing south to Bowie and then southeasterly along U.S. 81 and U.S. 287 to I-35W and I-35 to the juncture with I-10 in San Antonio, then east on I-10 to the Texas-Louisiana border.

Southeast Goose Zone: That portion of Texas lying east and south of a line beginning at the International Toll Bridge at Laredo, then continuing north following I-35 to the juncture with I-10 in San Antonio, then easterly along I-10 to the Texas-Louisiana border.

West Goose Zone: The remainder of the State.

Wyoming (Central Flyway Portion)

Dark Geese

Zone G1: Big Horn, Converse, Hot Springs, Natrona, Park, and Washakie Counties.

Zone G1A: Goshen and Platte Counties.

Zone G2: Campbell, Crook, Johnson, Niobrara, Sheridan, and Weston Counties.

Zone G3: Albany and Laramie Counties; and that portion of Carbon County east of the Continental Divide.

Zone G4: Fremont County excluding those portions south or west of the Continental Divide.

Pacific Flyway

Arizona

Same zones as for ducks.

California

Northeastern Zone: That portion of California lying east and north of a line beginning at the intersection of Interstate 5 with the California-Oregon line; south along Interstate 5 to its junction with Walters Lane south of the town of Yreka; west along Walters Lane to its junction with Easy Street; south along Easy Street to the junction with Old Highway 99; south along Old Highway 99 to the point of intersection with Interstate 5 north of the town of Weed; south along Interstate 5 to its junction with Highway 89; east and south along Highway 89 to main street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada State line; north along the California-Nevada State line to the junction of the California-Nevada-Oregon State lines west along the California-Oregon State line to the point of origin.

Klamath Basin Special Management Area: Beginning at the intersection of Highway 161 and Highway 97; east on Highway 161 to Hill Road; south on Hill Road to N Dike Road West Side; east on N Dike Road West Side until the junction of the Lost River; north on N Dike Road West Side until the Volcanic Legacy Scenic Byway; east on Volcanic Legacy Scenic Byway until N Dike Road East Side; south on the N Dike Road East Side; continue east on N Dike Road East Side to Highway 111; south on Highway 111/Great Northern Road to Highway 120/Highway 124; west on Highway 120/Highway 124 to Hill Road; south on Hill Road until Lairds Camp Road; west on Lairds Camp Road until Willow Creek; west and south on Willow Creek to Red Rock Road; west on Red Rock Road until Meiss Lake Road/Old State Highway; north on Meiss Lake Road/Old State Highway to Highway 97; north on Highway 97 to the point of origin.

Colorado River Zone: Those portions of San Bernardino, Riverside, and Imperial Counties east of a line from the intersection of Highway 95 with the California-Nevada State line; south on Highway 95 through the junction with Highway 40; south on Highway 95 to Vidal Junction; south through the town of Rice to the San Bernardino-Riverside County line on a road known as “Aqueduct Road” also known as Highway 62 in San Bernardino County; southwest on Highway 62 to Desert Center Rice Road; south on Desert Center Rice Road/Highway 177 to the town of Desert Center; east 31 miles on Interstate 10 to its intersection with Wiley Well Road; south on Wiley Well Road to Wiley Well; southeast on Milpitas Wash Road to the Blythe, Brawley, Davis Lake intersections; south on Blythe Ogilby Road also known as County Highway 34 to its intersection with Ogilby Road; south on Ogilby Road to its intersection with Interstate 8; east 7 miles on Interstate 8 to its intersection with the Andrade-Algodones Road/Highway 186; south on Highway 186 to its intersection with the U.S.-Mexico border at Los Algodones, Mexico.

Southern Zone: That portion of southern California (but excluding the Colorado River zone) south and east of a line beginning at the mouth of the Santa Maria River at the Pacific Ocean; east along the Santa Maria River to where it crosses Highway 101 2012;166 near the City of Santa Maria; north on Highway 101 2012;166; east on Highway 166 to the junction with Highway 99; south on Highway 99 to the junction of Interstate 5; south on Interstate 5 to the crest of the Tehachapi Mountains at Tejon Pass; east and north along the crest of the Tehachapi Mountains to where it intersects Highway 178 at Walker Pass; east on Highway 178 to the junction of Highway 395 at the town of Inyokern; south on Highway 395 to the junction of Highway 58; east on Highway 58 to the junction of Interstate 15; east on Interstate 15 to the junction with Highway 127; north on Highway 127 to the point of intersection with the California-Nevada State line.

Imperial County Special Management Area: The area bounded by a line beginning at Highway 86 and the Navy Test Base Road; south on Highway 86 to the town of Westmoreland; continue through the town of Westmoreland to Route S26; east on Route S26 to Highway 115; north on Highway 115 to Weist Road; north on Weist Road to Flowing Wells Road; northeast on Flowing Wells Road to the Coachella Canal; northwest on the Coachella Canal to Drop 18; a straight line from Drop 18 to Frink Road; south on Frink Road to Highway 111; north on Highway 111 to Niland Marina Road; southwest on Niland Marina Road to the old Imperial County boat ramp and the water line of the Salton Sea; from the water line of the Salton Sea, a straight line across the Salton Sea to the Salinity Control Research Facility and the Navy Test Base Road; southwest on the Navy Test Base Road to the point of beginning.

Balance of State Zone: The remainder of California not included in the Northeastern, Colorado River, and Southern Zones.

North Coast Special Management Area: Del Norte and Humboldt Counties.

Sacramento Valley Special Management Area: That area bounded by a line beginning at Willows south on I-5 to Hahn Road; easterly on Hahn Road and the Grimes-Arbuckle Road to Grimes; northerly on CA 45 to the junction with CA 162; northerly on CA 45/162 to Glenn; and westerly on CA 162 to the point of beginning in Willows.

Colorado (Pacific Flyway Portion)

Same zones as for ducks.

Idaho

Canada and Cackling Geese and Brant

Zone 1: Bannock, Butte, Clark, Fremont, Jefferson, Madison, and Teton Counties; Bingham County, except that portion within the Blackfoot Reservoir drainage; Caribou County within the Fort Hall Indian Reservation; Power County east of State Highway 37 and State Highway 39; and all lands and waters within the Fort Hall Indian Reservation, including private in-holdings.

Zone 2: Bonneville County.

Zone 3: Ada, Adams, Blaine, Boise, Camas, Canyon, Cassia, Clearwater, Custer, Elmore, Franklin, Gem, Gooding, Idaho, Jerome, Latah, Lemhi, Lewis, Lincoln, Minidoka, Nez Perce, Oneida, Owyhee, Payette, Twin Falls, and Washington Counties; and Power County west of State Highway 37 and State Highway 39.

Zone 4: Bear Lake County; Bingham County within the Blackfoot Reservoir drainage; and Caribou County, except that portion within the Fort Hall Indian Reservation.

Zone 5: Valley County.

Zone 6: Benewah, Bonner, Boundary, Kootenai, and Shoshone Counties.

White-Fronted Geese

Zone 1: Bannock County; Bingham County except that portion within the Blackfoot Reservoir drainage; Caribou County within the Fort Hall Indian Reservation; Power County east of State Highway 37 and State Highway 39; and all lands and waters within the Fort Hall Indian Reservation, including private in-holdings.

Zone 2: Bear Lake, Bonneville, Butte, Clark, Fremont, Jefferson, Madison, and Teton Counties; Bingham County within the Blackfoot Reservoir drainage; and Caribou County except within the Fort Hall Indian Reservation.

Zone 3: Adams, Blaine, Camas, Clearwater, Custer, Franklin, Idaho, Latah, Lemhi, Lewis, Nez Perce, and Oneida Counties; and Power County west of State Highway 37 and State Highway 39.

Zone 4: Ada, Boise, Canyon, Cassia, Elmore, Gem, Gooding, Jerome, Lincoln, Minidoka, Owyhee, Payette, Twin Falls, and Washington Counties.

Zone 5: Valley County.

Zone 6: Benewah, Bonner, Boundary, Kootenai, and Shoshone Counties.

Light Geese

Zone 1: All lands and waters within the Fort Hall Indian Reservation, including private in-holdings; Bannock County; Bingham County east of the west bank of the Snake River, west of the McTucker boat ramp access road, and east of the American Falls Reservoir bluff, except that portion within the Blackfoot Reservoir drainage; Caribou County within the Fort Hall Indian Reservation; and Power County below the American Falls Reservoir bluff, and within the Fort Hall Indian Reservation.

Zone 2: Franklin and Oneida Counties; Bingham County west of the west bank of the Snake River, east of the McTucker boat ramp access road, and west of the American Falls Reservoir bluff; Power County, except below the American Falls Reservoir bluff and those lands and waters within the Fort Hall Indian Reservation.

Zone 3: Ada, Boise, Canyon, Cassia, Elmore, Gem, Gooding, Jerome, Lincoln, Minidoka, Owyhee, Payette, Twin Falls, and Washington Counties.

Zone 4: Adams, Blaine, Camas, Clearwater, Custer, Idaho, Latah, Lemhi, Lewis, and Nez Perce Counties.

Zone 5: Bear Lake, Bonneville, Butte, Clark, Fremont, Jefferson, Madison, and Teton Counties; Bingham County within the Blackfoot Reservoir drainage; and Caribou County except within the Fort Hall Indian Reservation.

Zone 6: Valley County.

Zone 7: Benewah, Bonner, Boundary, Kootenai, and Shoshone Counties.

Nevada

Same zones as for ducks.

New Mexico (Pacific Flyway Portion)

North Zone: The Pacific Flyway portion of New Mexico located north of I-40.

South Zone: The Pacific Flyway portion of New Mexico located south of I-40.

Oregon

Northwest Permit Zone: Benton, Clackamas, Clatsop, Columbia, Lane, Lincoln, Linn, Marion, Multnomah, Polk, Tillamook, Washington, and Yamhill Counties.

Tillamook County Management Area: That portion of Tillamook County beginning at the point where Old Woods Road crosses the south shores of Horn Creek, north on Old Woods Road to Sand Lake Road at Woods, north on Sand Lake Road to the intersection with McPhillips Drive, due west (~200 yards) from the intersection to the Pacific coastline, south along the Pacific coastline to a point due west of the western end of Pacific Avenue in Pacific City, east from this point (~250 yards) to Pacific Avenue, east on Pacific Avenue to Brooten Road, south and then east on Brooten Road to Highway 101, north on Highway 101 to Resort Drive, north on Resort Drive to a point due west of the south shores of Horn Creek at its confluence with the Nestucca River, due east (~80 yards) across the Nestucca River to the south shores of Horn Creek, east along the south shores of Horn Creek to the point of beginning.

Southwest Zone: Those portions of Douglas, Coos, and Curry Counties east of Highway 101, and Josephine and Jackson Counties.

South Coast Zone: Those portions of Douglas, Coos, and Curry Counties west of Highway 101.

Eastern Zone: Baker, Crook, Deschutes, Grant, Harney, Jefferson, Klamath, Lake, Malheur, Union, Wallowa, and Wheeler Counties.

Mid-Columbia Zone: Gilliam, Hood River, Morrow, Sherman, Umatilla, and Wasco Counties.

Utah

East Box Elder County Zone: Boundary begins at the intersection of the eastern boundary of Public Shooting Grounds Waterfowl Management Area and SR-83 (Promontory Road); east along SR-83 to I-15; south on I-15 to the Perry access road; southwest along this road to the Bear River Bird Refuge boundary; west, north, and then east along the refuge boundary until it intersects the Public Shooting Grounds Waterfowl Management Area boundary; east and north along the Public Shooting Grounds Waterfowl Management Area boundary to SR-83.

Wasatch Front Zone: Boundary begins at the Weber-Box Elder County line at I-15; east along Weber County line to U.S.-89; south on U.S.-89 to I-84; east and south on I-84 to I-80; south on I-80 to U.S.-189; south and west on U.S.-189 to the Utah County line; southeast and then west along this line to the Tooele County line; north along the Tooele County line to I-80; east on I-80 to Exit 99; north from Exit 99 along a direct line to the southern tip of Promontory Point and Promontory Road; east and north along this road to the causeway separating Bear River Bay from Ogden Bay; east on this causeway to the southwest corner of Great Salt Lake Mineral Corporations (GSLMC) west impoundment; north and east along GSLMC's west impoundment to the northwest corner of the impoundment; north from this point along a direct line to the southern boundary of Bear River Migratory Bird Refuge; east along this southern boundary to the Perry access road; northeast along this road to I-15; south along I-15 to the Weber-Box Elder County line.

Southern Zone: Boundary includes Beaver, Carbon, Emery, Garfield, Grand, Iron, Juab, Kane, Millard, Piute, San Juan, Sanpete, Sevier, Washington, and Wayne Counties, and that part of Tooele County south of I-80.

Northern Zone: The remainder of Utah not included in the East Box Elder County, Wasatch Front, and Southern Zones.

Washington

Area 1: Skagit and Whatcom Counties, and that portion of Snohomish County west of Interstate 5.

Area 2 Inland (Southwest Permit Zone): Clark, Cowlitz, and Wahkiakum Counties, and that portion of Grays Harbor County east of Highway 101.

Area 2 Coastal (Southwest Permit Zone): Pacific County and that portion of Grays Harbor County west of Highway 101.

Area 3: All areas west of the Pacific Crest Trail and west of the Big White Salmon River that are not included in Areas 1, 2 Coastal, and 2 Inland.

Area 4: Adams, Benton, Chelan, Douglas, Franklin, Grant, Kittitas, Lincoln, Okanogan, Spokane, and Walla Walla Counties.

Area 5: All areas east of the Pacific Crest Trail and east of the Big White Salmon River that are not included in Area 4.

Brant

Pacific Flyway

California

Northern Zone: Del Norte, Humboldt, and Mendocino Counties.

Balance of State Zone: The remainder of the State not included in the Northern Zone.

Washington

Puget Sound Zone: Clallam, Skagit, and Whatcom Counties.

Coastal Zone: Pacific County.

Swans

Central Flyway

South Dakota

Open Area: Aurora, Beadle, Brookings, Brown, Brule, Buffalo, Campbell, Clark, Codington, Davison, Day, Deuel, Edmunds, Faulk, Grant, Hamlin, Hand, Hanson, Hughes, Hyde, Jerauld, Kingsbury, Lake, Marshall, McCook, McPherson, Miner, Minnehaha, Moody, Potter, Roberts, Sanborn, Spink, Sully, and Walworth Counties.

Pacific Flyway

Idaho

Open Area: Benewah, Bonner, Boundary, and Kootenai Counties.

Montana (Pacific Flyway Portion)

Open Area: Cascade, Chouteau, Hill, Liberty, and Toole Counties and those portions of Pondera and Teton Counties lying east of U.S. 287-89.

Nevada

Open Area: Churchill, Lyon, and Pershing Counties.

Utah

Open Area: Those portions of Box Elder, Weber, Davis, Salt Lake, and Toole Counties lying west of I-15, north of I-80, and south of a line beginning from the Forest Street exit to the Bear River National Wildlife Refuge boundary; then north and west along the Bear River National Wildlife Refuge boundary to the farthest west boundary of the Refuge; then west along a line to Promontory Road; then north on Promontory Road to the intersection of SR 83; then north on SR 83 to I-84; then north and west on I-84 to State Hwy 30; then west on State Hwy 30 to the Nevada-Utah State line; then south on the Nevada-Utah State line to I-80.

Doves

Alabama

South Zone: Baldwin, Coffee, Covington, Dale, Escambia, Geneva, Henry, Houston, and Mobile Counties.

North Zone: Remainder of the State.

Florida

Northwest Zone: The Counties of Bay, Calhoun, Escambia, Franklin, Gadsden, Gulf, Holmes, Jackson, Liberty, Okaloosa, Santa Rosa, Walton, Washington, Leon (except that portion north of U.S. 27 and east of State Road 155), Jefferson (south of U.S. 27, west of State Road 59 and north of U.S. 98), and Wakulla (except that portion south of U.S. 98 and east of the St. Marks River).

South Zone: The remainder of the State.

Louisiana

North Zone: That portion of the State north of a line extending east from the Texas border along State Highway 12 to U.S. Highway 190, east along U.S. Highway 190 to Interstate Highway 12, east along Interstate Highway 12 to Interstate Highway 10, then east along Interstate Highway 10 to the Mississippi border.

South Zone: The remainder of the State.

Mississippi

North Zone: That portion of the State north and west of a line extending west from the Alabama State line along U.S. Highway 84 to its junction with State Highway 35, then south along State Highway 35 to the Louisiana State line.

South Zone: The remainder of Mississippi.

Oregon

Zone 1: Benton, Clackamas, Clatsop, Columbia, Coos, Curry, Douglas, Gilliam, Hood River, Jackson, Josephine, Lane, Lincoln, Linn, Marion, Morrow, Multnomah, Polk, Sherman, Tillamook, Umatilla, Wasco, Washington, and Yamhill, Counties.

Zone 2: The remainder of Oregon not included in Zone 1.

Texas

North Zone: That portion of the State north of a line beginning at the International Bridge south of Fort Hancock; north along FM 1088 to TX 20; west along TX 20 to TX 148; north along TX 148 to I-10 at Fort Hancock; east along I-10 to I-20; northeast along I-20 to I-30 at Fort Worth; northeast along I-30 to the Texas-Arkansas State line.

Central Zone: That portion of the State lying between the North and South Zones.

South Zone: That portion of the State south and west of a line beginning at the International Bridge south of Del Rio, proceeding east on U.S. 90 to State Loop 1604 west of San Antonio; then south, east, and north along Loop 1604 to I-10 east of San Antonio; then east on I-10 to Orange, Texas.

Special White-winged Dove Area: Same as the South Zone.

Band-Tailed Pigeons

California

North Zone: Alpine, Butte, Del Norte, Glenn, Humboldt, Lassen, Mendocino, Modoc, Plumas, Shasta, Sierra, Siskiyou, Tehama, and Trinity Counties.

South Zone: The remainder of the State not included in the North Zone.

New Mexico

North Zone: North of a line following U.S. 60 from the Arizona State line east to I-25 at Socorro and then south along I-25 from Socorro to the Texas State line.

South Zone: The remainder of the State not included in the North Zone.

Washington

Western Washington: The State of Washington excluding those portions lying east of the Pacific Crest Trail and east of the Big White Salmon River in Klickitat County.

American Woodcock

New Jersey

North Zone: That portion of the State north of NJ 70.

South Zone: The remainder of the State.

Sandhill Cranes

Mississippi Flyway

Alabama

Open Area: That area north of Interstate 20 from the Georgia State line to the interchange with Interstate 65, then east of Interstate 65 to the interchange with Interstate 22, then north of Interstate 22 to the Mississippi State line.

Minnesota

Northwest Zone: That portion of the State encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Tennessee

Southeast Crane Zone: That portion of the State south of Interstate 40 and east of State Highway 56.

Remainder of State: That portion of Tennessee outside of the Southeast Crane Zone.

Central Flyway

Colorado

Open Area: The Central Flyway portion of the State except the San Luis Valley (Alamosa, Conejos, Costilla, Hinsdale, Mineral, Rio Grande, and Saguache Counties east of the Continental Divide) and North Park (Jackson County).

Kansas

Central Zone: That portion of the State within an area bounded by a line beginning where I-35 crosses the Kansas-Oklahoma border, then north on I-35 to Wichita, then north on I-135 to Salina, then north on U.S. 81 to the Nebraska border, then west along the Kansas-Nebraska border to its intersection with Hwy 283, then south on Hwy 283 to the intersection with Hwy 18/24, then east along Hwy 18 to Hwy 183, then south on Hwy 183 to Route 1, then south on Route 1 to the Oklahoma border, then east along the Kansas-Oklahoma border to where it crosses I-35.

West Zone: That portion of the State west of the western boundary of the Central Zone.

Montana

Regular Season Open Area: The Central Flyway portion of the State except for that area south and west of Interstate 90, which is closed to sandhill crane hunting.

Special Season Open Area: Carbon County.

New Mexico

Regular-Season Open Area: Chaves, Curry, De Baca, Eddy, Lea, Quay, and Roosevelt Counties.

Special Season Open Areas:

Middle Rio Grande Valley Area: The Central Flyway portion of New Mexico in Socorro and Valencia Counties.

Estancia Valley Area: Those portions of Santa Fe, Torrance, and Bernallilo Counties within an area bounded on the west by New Mexico Highway 55 beginning at Mountainair north to NM 337, north to NM 14, north to I-25; on the north by I-25 east to U.S. 285; on the east by U.S. 285 south to U.S. 60; and on the south by U.S. 60 from U.S. 285 west to NM 55 in Mountainair.

Southwest Zone: Area bounded on the south by the New Mexico-Mexico border; on the west by the New Mexico-Arizona border north to Interstate 10; on the north by Interstate 10 east to U.S. 180, north to NM 26, east to NM 27, north to NM 152, and east to Interstate 25; on the east by Interstate 25 south to Interstate 10, west to the Luna County line, and south to the New Mexico-Mexico border.

North Dakota

Area 1: That portion of the State west of U.S. 281.

Area 2: That portion of the State east of U.S. 281.

Oklahoma

Open Area: That portion of the State west of I-35.

South Dakota

Open Area: That portion of the State lying west of a line beginning at the South Dakota-North Dakota border and State Highway 25, south on State Highway 25 to its junction with State Highway 34, east on State Highway 34 to its junction with U.S. Highway 81, then south on U.S. Highway 81 to the South Dakota-Nebraska border.

Texas

Zone A: That portion of Texas lying west of a line beginning at the international toll bridge at Laredo, then northeast along U.S. Highway 81 to its junction with Interstate Highway 35 in Laredo, then north along Interstate Highway 35 to its junction with Interstate Highway 10 in San Antonio, then northwest along Interstate Highway 10 to its junction with U.S. Highway 83 at Junction, then north along U.S. Highway 83 to its junction with U.S. Highway 62, 16 miles north of Childress, then east along U.S. Highway 62 to the Texas-Oklahoma State line.

Zone B: That portion of Texas lying within boundaries beginning at the junction of U.S. Highway 81 and the Texas-Oklahoma State line, then southeast along U.S. Highway 81 to its junction with U.S. Highway 287 in Montague County, then southeast along U.S. Highway 287 to its junction with Interstate Highway 35W in Fort Worth, then southwest along Interstate Highway 35 to its junction with Interstate Highway 10 in San Antonio, then northwest along Interstate Highway 10 to its junction with U.S. Highway 83 in the town of Junction, then north along U.S. Highway 83 to its junction with U.S. Highway 62, 16 miles north of Childress, then east along U.S. Highway 62 to the Texas-Oklahoma State line, then south along the Texas-Oklahoma State line to the south bank of the Red River, then eastward along the vegetation line on the south bank of the Red River to U.S. Highway 81.

Zone C: The remainder of the State, except for the closed areas.

Closed areas:

A. That portion of the State lying east and north of a line beginning at the junction of U.S. Highway 81 and the Texas-Oklahoma State line, then southeast along U.S. Highway 81 to its junction with U.S. Highway 287 in Montague County, then southeast along U.S. Highway 287 to its junction withI-35W in Fort Worth, then southwest along I-35 to its junction with U.S. Highway 290 East in Austin, then east along U.S. Highway 290 to its junction with Interstate Loop 610 in Harris County, then south and east along Interstate Loop 610 to its junction with Interstate Highway 45 in Houston, then south on Interstate Highway 45 to State Highway 342, then to the shore of the Gulf of Mexico, and then north and east along the shore of the Gulf of Mexico to the Texas-Louisiana State line.

B. That portion of the State lying within the boundaries of a line beginning at the Kleberg-Nueces County line and the shore of the Gulf of Mexico, then west along the County line to Park Road 22 in Nueces County, then north and west along Park Road 22 to its junction with State Highway 358 in Corpus Christi, then west and north along State Highway 358 to its junction with State Highway 286, then north along State Highway 286 to its junction with Interstate Highway 37, then east along Interstate Highway 37 to its junction with U.S. Highway 181, then north and west along U.S. Highway 181 to its junction with U.S. Highway 77 in Sinton, then north and east along U.S. Highway 77 to its junction with U.S. Highway 87 in Victoria, then south and east along U.S. Highway 87 to its junction with State Highway 35 at Port Lavaca, then north and east along State Highway 35 to the south end of the Lavaca Bay Causeway, then south and east along the shore of Lavaca Bay to its junction with the Port Lavaca Ship Channel, then south and east along the Lavaca Bay Ship Channel to the Gulf of Mexico, and then south and west along the shore of the Gulf of Mexico to the Kleberg-Nueces County line.

Wyoming

Area 7: Campbell, Converse, Crook, Goshen, Laramie, Niobrara, Platte, and Weston Counties.

Area 4: All lands within the Bureau of Reclamation's Riverton and Boysen Unit boundaries; those lands within Boysen State Park south of Cottonwood Creek, west of Boysen Reservoir, and south of U.S. Highway 20-26; and all non‐Indian owned fee title lands within the exterior boundaries of the Wind River Reservation, excluding those lands within Hot Springs County.

Area 6: Big Horn, Hot Springs, Park, and Washakie Counties.

Area 8: Johnson, Natrona, and Sheridan Counties.

Pacific Flyway

Arizona

Zone 1: Beginning at the junction of the New Mexico State line and U.S. Hwy 80; south along the State line to the U.S.-Mexico border; west along the border to the San Pedro River; north along the San Pedro River to the junction with Arizona Hwy 77; northerly along Arizona Hwy 77 to the Gila River; northeast along the Gila River to the San Carlos Indian Reservation boundary; south then east and north along the reservation boundary to U.S. Hwy 70; southeast on U.S. Hwy 70 to U.S. Hwy 191; south on U.S. Hwy 191 to the 352 exit on I-10; east on I-10 to Bowie-Apache Pass Road; southerly on the Bowie-Apache Pass Road to Arizona Hwy 186; southeasterly on Arizona Hwy 186 to Arizona Hwy 181; south on Arizona Hwy 181 to the West Turkey Creek-Kuykendall cutoff road; southerly on the Kuykendall cutoff road to Rucker Canyon Road; easterly on Rucker Canyon Road to the Tex Canyon Road; southerly on Tex Canyon Road to U.S. Hwy 80; northeast on U.S. Hwy 80 to the New Mexico State line.

Zone 2: Beginning at I-10 and the New Mexico State line; north along the State line to Arizona Hwy 78; southwest on Arizona Hwy 78 to U.S. Hwy 191; northwest on U.S. Hwy 191 to Clifton; westerly on the Lower Eagle Creek Road (Pump Station Road) to Eagle Creek; northerly along Eagle Creek to the San Carlos Indian Reservation boundary; southerly and west along the reservation boundary to U.S. Hwy 70; southeast on U.S. Hwy 70 to U.S. Hwy 191; south on U.S. Hwy 191 to I-10; easterly on I-10 to the New Mexico State line.

Zone 3: Beginning on I-10 at the New Mexico State line; westerly on I-10 to the Bowie-Apache Pass Road; southerly on the Bowie-Apache Pass Road to AZ Hwy 186; southeast on AZ Hwy 186 to AZ Hwy 181; south on AZ Hwy 181 to the West Turkey Creek-Kuykendall cutoff road; southerly on the Kuykendall cutoff road to Rucker Canyon Road; easterly on the Rucker Canyon Road to Tex Canyon Road; southerly on Tex Canyon Road to U.S. Hwy 80; northeast on U.S. Hwy 80 to the New Mexico State line; north along the State line to I-10.

Idaho

Area 1: All of Bear Lake County and all of Caribou County except that portion lying within the Grays Lake Basin.

Area 2: All of Teton County except that portion lying west of State Highway 33 and south of Packsaddle Road (West 400 North) and north of the North Cedron Road (West 600 South) and east of the west bank of the Teton River.

Area 3: All of Fremont County except the Chester Wetlands Wildlife Management Area.

Area 4: All of Jefferson County.

Area 5: All of Bannock County east of Interstate 15 and south of U.S. Highway 30; and all of Franklin County.

Area 6: That portion of Oneida County within the boundary beginning at the intersection of the Idaho-Utah border and Old Highway 191, then north on Old Highway 191 to 1500 S, then west on 1500 S to Highway 38, then west on Highway 38 to 5400 W, then south on 5400 W to Pocatello Valley Road, then west and south on Pocatello Valley Road to 10000 W, then south on 10000 W to the Idaho-Utah border, then east along the Idaho-Utah border to the beginning point.

Montana

Zone 1: Those portions of Deer Lodge County lying within the following described boundary: Beginning at the intersection of I-90 and Highway 273, then westerly along Highway 273 to the junction of Highway 1, then southeast along said highway to Highway 275 at Opportunity, then east along said highway to East Side County road, then north along said road to Perkins Lane, then west on said lane to I-90, then north on said interstate to the junction of Highway 273, the point of beginning. Except for sections 13 and 24, T5N, R10W; and Warm Springs Pond number 3.

Zone 2: That portion of the Pacific Flyway, located in Powell County lying within the following described boundary: Beginning at the junction of State Routes 141 and 200, then west along Route 200 to its intersection with the Blackfoot River at Russell Gates Fishing Access Site (Powell-Missoula County line), then southeast along said river to its intersection with the Ovando-Helmville Road (County Road 104) at Cedar Meadows Fishing Access Site, then south and east along said road to its junction with State Route 141, then north along said route to its junction with State Route 200, the point of beginning.

Zone 3: Beaverhead, Gallatin, Jefferson, and Madison Counties.

Zone 4: Broadwater County.

Zone 5: Cascade and Teton Counties.

Utah

Cache County: Cache County.

East Box Elder County: That portion of Box Elder County beginning on the Utah-Idaho State line at the Box Elder-Cache County line; west on the State line to the Pocatello Valley County Road; south on the Pocatello Valley County Road to I-15; southeast on I-15 to SR-83; south on SR-83 to Lamp Junction; west and south on the Promontory Point County Road to the tip of Promontory Point; south from Promontory Point to the Box Elder-Weber County line; east on the Box Elder-Weber County line to the Box Elder-Cache County line; north on the Box Elder-Cache County line to the Utah-Idaho State line.

Rich County: Rich County.

Uintah County: Uintah and Duchesne Counties.

Wyoming

Area 1: All of the Bear River and Ham's Fork River drainages in Lincoln County.

Area 2: All of the Salt River drainage in Lincoln County south of the McCoy Creek Road.

Area 3: All lands within the Bureau of Reclamation's Eden Project in Sweetwater County.

Area 5: Uinta County.

All Migratory Game Birds in Alaska

North Zone: State Game Management Units 11-13 and 17-26.

Gulf Coast Zone: State Game Management Units 5-7, 9, 14-16, and 10 (Unimak Island only).

Southeast Zone: State Game Management Units 1-4.

Pribilof and Aleutian Islands Zone: State Game Management Unit 10 (except Unimak Island).

Kodiak Zone: State Game Management Unit 8.

All Migratory Game Birds in the Virgin Islands

Ruth Cay Closure Area: The island of Ruth Cay, just south of St. Croix.

All Migratory Game Birds in Puerto Rico

Municipality of Culebra Closure Area: All of the municipality of Culebra.

Desecheo Island Closure Area: All of Desecheo Island.

Mona Island Closure Area: All of Mona Island.

El Verde Closure Area: Those areas of the municipalities of Rio Grande and Loiza delineated as follows: (1) All lands between Routes 956 on the west and 186 on the east, from Route 3 on the north to the juncture of Routes 956 and 186 (Km 13.2) in the south; (2) all lands between Routes 186 and 966 from the juncture of 186 and 966 on the north, to the Caribbean National Forest Boundary on the south; (3) all lands lying west of Route 186 for 1 kilometer from the juncture of Routes 186 and 956 south to Km 6 on Route 186; (4) all lands within Km 14 and Km 6 on the west and the Caribbean National Forest Boundary on the east; and (5) all lands within the Caribbean National Forest Boundary whether private or public.

Cidra Municipality and adjacent areas: All of Cidra Municipality and portions of Aguas Buenas, Caguas, Cayey, and Comerio Municipalities as encompassed within the following boundary: beginning on Highway 172 as it leaves the municipality of Cidra on the west edge, north to Highway 156, east on Highway 156 to Highway 1, south on Highway 1 to Highway 765, south on Highway 765 to Highway 763, south on Highway 763 to the Rio Guavate, west along Rio Guavate to Highway 1, southwest on Highway 1 to Highway 14, west on Highway 14 to Highway 729, north on Highway 729 to Cidra Municipality boundary to the point of the beginning.

Shannon A. Estenoz,
Assistant Secretary for Fish and Wildlife and Parks.

[FR Doc. 2022-01852 Filed 2-1-22; 8:45 am]

BILLING CODE 4333-15-P